DEPARTMENT OF STATE

[Public Notice 5435]

Office of Protocol; Gifts to Federal Employees From Foreign Government Sources Reported to Employing Agencies in Calendar Year 2004

The Department of State submits the following comprehensive listing of the statements which, as required by law, Federal employees filed with their employing agencies during calendar year 2004 concerning gifts received from foreign government sources. The compilation includes reports of both tangible gifts and gifts of travel or travel expenses of more than minimal value, as defined by statute.

Publication of this listing in the Federal Register is required by Section 7342(f) of Title 5, United States Code, as added by Section 515(a)(1) of the Foreign Relations Authorization Act, Fiscal Year 1978 (Pub. L. 95-105, August 17, 1977, 91 Stat. 865).

Dated: May 17, 2006.
Henrietta H. Fore,
Under Secretary for Management, Department of State.

AGENCY: White House Office and the National Security Council
[Report of Tangible Gifts]
Name and title of person accepting the gift on behalf of the U.S. Government | Gift, date of acceptance on behalf of the U.S. Government, estimated value, and current disposition or location | Identity of foreign donor and government | Circumstances justifying acceptance
President | Artwork: 9″ x 7″ bull moose antler sculpture of an Eskimo in a kayak beside an igloo and a whale. Recd—January 12, 2004. Est. Value—$350. Archives Foreign | The Right Paul Martin, P.C., M. P., Honorable, The Prime Minister of Canada and Mrs. Martin | Non-acceptance would cause embarrassment to donor and U.S. Government.
President | Baseball caps (2): navy blue and silver wool Dallas Cowboys baseball caps embroidered with a star and a NFL patch. Recd—January 15, 2004. Est. Value—$40. Archives Foreign | His Royal Highness Prince Bandar bin Sultan, Ambassador of the Kingdom of Saudi Arabia | Non-acceptance would cause embarrassment to donor and U.S. Government.
| Clothing: Dallas Cowboys navy blue polyester pullover embroidered with a “D” on the front and “Cowboys” on the back. Recd—January 15, 2004. Est. Value—$70. Archives Foreign
| Clothing: navy blue wool Dallas Cowboys Varsity jacket with brown leather sleeves and Super Bowl patches sewn on each. Recd—January 15, 2004. Est. Value—$200. Archives Foreign
President | Desk accessory: 10″ x 2″ sterling silver pen and ink container with intricate engravings on the lid. Recd—January 28, 2004. Est. Value—$350. Archives Foreign | His Excellency Recep Tayyip Erdogan, Prime Minister of the Republic of Turkey | Non-acceptance would cause embarrassment donor and U.S. Government.
President | Hardcover book: 12″ x 16½,″ brown leather bound book, “I palazzi di Genova (The Palaces of Genoa),” by Peter Paul Rubens. Recd—January 30, 2004. Est. Value—$325. Archives Foreign | The Honorable Giuseppe Pericu, Mayor of Genoa, Italy | Non-acceptance would cause embarrassment to donor and U.S. Government.
President | Household item: 10′ x 14′ brown, tan, sage and ivory wool rug with an intricate geometric pattern. Recd—February 18, 2004. Est. Value—$6300. Archives Foreign | His Excellency Zine El Abidine Ben Ali, President of the Republic of Tunisia | Non-acceptance would cause embarrassment to donor and U.S. Government.
President | Consumables (12): bottles of Georgian dry red wine. Recd—February 25, 2004. Est. Value—$144. Handled pursuant to Secret Service policy | His Excellency Mikheil Saakashvili, President of Georgia | Non-acceptance would cause embarrassment to donor and U.S. Government.
| Miscellaneous: 4″ gold-tone rose figurine; mounted on a 3½″ x 2½″ x 1″ green marble base with a plaque engraved “Revolution of Roses in Georgia, Mikheil Saakashvili.” Recd—February 25, 2004. Est. Value—$50. Archives Foreign
| Artwork: 37″ x 26″ multicolored oil painting on canvas of a Georgian town in the mountains; held in a 37″ x 26″ gold-tone wood frame. Recd—February 25, 2004. Est. Value—$100. Archives Foreign
| Athletic equipment: 11″ Softball, signed by Georgia's Junior Baseball League. Recd—February 25, 2004. Est. Value—$40. Archives Foreign
President | Household item: 10″ Waterford crystal scalloped bowl “Kings Bowl” etched “Presented to George W. Bush, President of the United States of America, On the Occasion of St. Patrick's Day 2004, By The Taoiseach Bertie Ahern, on Behalf of the People of Ireland.” Recd—March 17, 2004. Est. Value—$550. Archives Foreign | His Excellency Bertie Ahern, TD Prime Minister of Ireland | Non-acceptance would cause embarrassment to donor and U.S. Government.
President | Hardcover book: “Botero: New Works on Canvas,” an interview with Fernando Botero and “One Hundred Years of Solitude,” by Gabriel Garcia Marquez, held in a 20½″ x 12″ x 3″ wooden box engraved with the authors signatures on the lid. Recd—March 23, 2004. Est. Value—$180. Archives Foreign | His Excellency Alvaro Uribe, President of the Republic of Colombia and Mrs. Lina Moreno de Uribe | Non-acceptance would cause embarrassment to donor and U.S. Government.
President | Desk accessory: 3½″ x 2″ oval golden amber paperweight. Recd—March 29, 2004. Est. Value—$650. Archives Foreign | His Excellency Indulis Emsis, Prime Minister of the Republic of Latvia | Non-acceptance would cause embarrassment to donor and U.S. Government.
President | 25″ x 52″ 19th century hand-painted Syrian cabinet doors; held in a 33″ x 62½″ gold-tone shadowbox frame with a plaque engraved “Syrian Hand Painted Cabinet Doors, CA: 1800's.” Recd—March 31, 2004. Est. Value—$1200. Archives Foreign | His Excellency Imad Moustapha, Ambassador of the Syrian Arab Republic | Non-acceptance would cause embarrassment to donor and U.S. Government.
President | Household item: 47″ x 78″ multicolored silk rug with intricate floral and bird designs. Recd—April 12, 2004. Est. Value—$2400. Archives Foreign | His Excellency Mohamed Hosny Mubarak, President of the Arab Republic of Egypt | Non-acceptance would cause embarrassment to donor and U.S. Government.
President | Miscellaneous: 8″ x 10″ gold leaf vase, by Jinli Shen, comprised of Chinese jingdezhen ceramic, Fuzhou lacquer and Cloisonne enamel; mounted on a 12″ x 12″ x 6″ wooden base with intricate gold feet. Recd—April 21, 2004. Est. Value—$350. Archives Foreign | Her Excellency Wu Yi, Vice Premier of the State Council of the People's Republic of China | Non-acceptance would cause embarrassment to donor and U.S. Government.
President | Miscellaneous: Phoenix Pro Max Model 2020 black leather protective rodeo vest embroidered with the American and Canadian flags on the front. Recd—April 30, 2004. Est. Value—$290. Archives Foreign | The Right Honorable Paul Martin, P.C., M.P., Prime Minister of Canada | Non-acceptance would cause embarrassment to donor and U.S. Government.
President | Desk accessory: 5½″ Mont Blanc sterling silver pinstriped fountain pen with 18k gold trim and engraved with the donor's signature. Recd—April 30, 2004. Est. Value—$675. Archives Foreign | His Majesty King Abdullah II of the Hashemite Kingdom of Jordan | Non-acceptance would cause embarrassment to donor and U.S. Government.
President | Accessory: Wyler Vetta limited edition (8/275) Moby Dick watch with white and black alligator leather bands. Recd—May 19, 2004. Est. Value—$3004. Archives Foreign | His Excellency Silvio Berlusconi, President of the Council of Ministers of the Italian Republic | Non-acceptance would cause embarrassment to donor and U.S. Government.
| Clothing (6): a variety of E. Marinella silk ties. Recd—May 19, 2004. Est. Value $810. Archives Foreign
President | Miscellaneous: 7″ Kessaris sterling silver cup engraved with donor's signature and handles depicting silver olive leaves. Recd—May 20, 2004. Est. Value—$500. Archives Foreign | His Excellency Kostas Karamanlis, Prime Minister of the Hellenic Republic | Non-acceptance would cause embarrassment to donor and U.S. Government.
| Collectable: white baseball printed “Athens 2004” and signed by donor, with 4kg black metal shot put and stand. Recd—May 20, 2004. Est. Value—$225. Archives Foreign
President | Artwork: 70″ x 24″ Gabonese hammered copper and wood mask; mounted on a 26″ x 19½″ x 8″ iron stand. Recd—May 26, 2004. Est. Value—$600. Archives Foreign | His Excellency El Hadj Omar Bongo Ondimba, President of the Gabonese Republic | Non-acceptance would cause embarrassment to donor and U.S. Government.
| Weapon: 18½″ x 11″ Gabonese black wood machete with gold-tone trim. Recd—May 26, 2004. Est. Value—$600. Archives Foreign
President | Artwork: 12″ x 12″ x 32″ marble sculpture of Hercules, crafted by Pietro Galli in 1895. Rec'd—June 4, 2004. Est. Value—$8500. Archives Foreign | His Excellency Silvio Berlusconi, President of the Council of Ministers of the Italian Republic | Non-acceptance would cause embarrassment to donor and U.S. Government.
| Hardcover book: “Villa Madama (Madame's Villa),” by R. Editalia. Recd—June 4, 2004. Est. Value—$22. Archives Foreign
| Accessories (10): a variety of E. Marinella silk ties. Recd—June 4, 2004. Est. Value—$1350. Archives Foreign
President | Hardcover books (2, 1850 editions): “Democratie en Amerique: Tome Un et Deux (Democracy in America: Volumes 1 and 2),” by Alexis de Tocqueville. Recd—June 5, 2004. Est. Value—$1500. Archives Foreign | His Excellency Jacques Chirac, President of the French Republic | Non-acceptance would cause embarrassment to donor and U.S. Government.
| Collectable: 44″ x 11½″ x 15″ LCT 555 gray wooden model boat; held on a 50″ x 18½″ x 4½″ brown wood stand. Recd—June 5, 2004. Est. Value—$1500. Archives Foreign
President | Miscellaneous: 12″ x 4″ Reuge Music clear glass music box that plays “La Traviata,” “Nabucco,” and “Il Trovatore” with 2″ intricate fish-shaped gold-tone feet and etched with the royal crest. Recd—June 9, 2004. Est. Value—$1980. Archives Foreign | His Majesty Hamad Bin Isa Bin Salman Al-Khalifa, King of the Kingdom of Bahrain | Non-acceptance would cause embarrassment to donor and U.S. Government.
President | Smoking accessories: 12″ x 9″ x 4″ Lalique brown wood humidor inlaid with intricately carved resin. Recd—June 9, 2004. Est. Value—$2895. Archives Foreign | His Excellency Jacques Chirac, President of the French Republic | Non-acceptance would cause embarrassment to donor and U.S. Government.
President | Accessory: pair of ¾″ 18kt white gold cufflinks depicting the Arabic symbols of good fortune and health. Recd—June 15, 2004. Est. Value—$400. Archives Foreign | His Majesty King Abdullah II of the Hashemite Kingdom of Jordan | Non-acceptance would cause embarrassment to donor and U.S. Government.
President | Hardcover book: “Treasures of the Hungarian National Library,” by Magyar Konyvklub. Recd—June 22, 2004. Est. Value—$90. Archives Foreign | His Excellency Peter Medgyessy, Prime Minister of the Republic of Hungary | Non-acceptance would cause embarrassment to donor and U.S. Government.
| Miscellaneous: 10′ braided brown leather whip with ornate multicolored leather detailing on a carved wooden handle. Recd—June 22, 2004 Est. Value—$125 Archives Foreign
| Miscellaneous: 16½″ x 19½″ limited edition (101/500) replica of the first printed map of the United States in 1540; held in a 22″ x 25″ gold-tone frame with green and red matting. Recd—June 22, 2004. Est. Value—$550. Archives Foreign
President | Household item: 12″ Lacquer ware bamboo bowl. Recd—June 22, 2004. Est. Value—$99. Archives Foreign | His Majesty sultan Haji Hassanal Bolkia Mu'izzaddin Waddaulah | Non-acceptance would cause embarrassment to donor and U.S. Government.
| Household items (2): 2″ x 7″ Biarritz clear glass champagne flutes, by Cristal JG Durand. Recd—June 22, 2004. Est. Value—$23. Archives Foreign | Sultan and Yang Di-Pertuan of Brunei Darussalam
| Miscellaneous: 3″ x 4″ Earth elements red cinnamon scented candle. Recd—June 22, 2004. Est. Value—$20. Handled pursuant to Secret Service Policy
| Hardcover books (2): “The Amazing Cigar,” by Giovanni Livera and Jon Racherbaumer, and “Moments: The Pulitzer Prize-Winning Photographs,” by Hal Ruell. Recd—June 22, 2004. Est. Value—$55. Archives Foreign
| DVDs (2): “Singing in the Rain,” starring Gene Kelly and Debbie Reynolds, and “To Kill a Mockingbird,” starring Gregory Peck. Recd—June 22, 2004. Est. Value—$50. Archives Foreign
| CDs (4) and paperback book: “Central Avenue Sounds: Jazz in Los Angeles (1921-1956),” by various artists. Recd—June 22, 2004. Est. Value—$60. Archives Foreign
| CD: “That Christmas Feeling,” by various artists. Recd—June 22, 2004. Est. Value—$15. Archives Foreign
| Household item: 5″ x 3½″ Hungarian clear glass pitcher with lid. Recd—June 22, 2004. Est. Value—$20. Archives Foreign
| Holiday item: 5″ x 3½″ multi-colored beaded ornament with “Joy.” printed on it. Recd—June 22, 2004. Est. Value—$13. Archives Foreign
| Collectable: 5¼″ x 8¼″ Lalique amber crystal eagle with outspread wings. Recd—June 22, 2004. Est. Value—$575. Archives Foreign
| Miscellaneous: 4½″ x 5½″ silver-plated heart shaped penholder. Recd—June 22, 2004. Est. Value—$26. Archives Foreign
| Miscellaneous: 2½″ x 2¼″ Elias star-shaped pewter picture frame. Recd—June 22, 2004. Est. Value—$50. Archives Foreign
President | Miscellaneous: 9½″ Waterford black ceramic carafe lined with a gold-tone finish; accompanied by a 12″ matching bowl. Recd—June 25, 2004. Est. Value—$118. Archives Foreign | Her Excellency Dr. Mary McAleese, The President of Ireland | Non-acceptance would cause embarrassment to donor and U.S. Government.
President | Hardcover book: “The Encyclopedia of Ireland,” edited by Brian Lalor. Recd—June 25, 2004 Est. Value—$65 Archives Foreign | His Excellency Bertie Ahern, TD Prime Minister of Ireland | Non-acceptance would cause embarrassment to donor and U.S. Government.
President | Household item: 13″ frosted and tinted crystal vase with intricate detailing Recd—June 25, 2004. Est. Value $76. Archives Foreign Sultan and Yang Di-Pertuan of Brunei Darussalam Game: “Forgotten English: Knowledge Cards,” created by Jeffrey Kacirk Recd—June 25, 2004 Est. Value—$10 Archives Foreign | His Majesty Sultan Haji Hassanal Bolkiah Mu'izzaddin Waddaulah. Sultan and Yang Di-Pertuan of Brunei Darussalam | Non-acceptance would cause embarrassment to donor and U.S. Government.
| Desk accessory: 4¾″ x 2″ pewter desk clock. Recd—June 25, 2004. Est. Value—$56. Damaged during shipment
| Hardcover book: “Selected Poetry of Ogden Nash,” introduction by Archibald MacLeish. Recd—June 25, 2004. Est. Value—$16. Archives Foreign
| Hardcover book: “And the Crowd Goes Wild: Relive the Most Celebrated Sporting Events Ever Broadcast,” by Joe Garner. Recd—June 25, 2004. Est. Value—$50. Archives Foreign
| Artwork: 4½″ x 6½″ black and white print by Loy Whitman, of a park in New Haven during the winter; held in 8″ x 10″ black wood frame with black and white matting. Recd—June 25, 2004. Est. Value—$42. Archives Foreign
| Game: “Horse Race Derby: An Action Marble Game.” Recd—June 25, 2004. Est. Value—$16. Archives Foreign
| Household item: 3½″ x 3½″ sterling silver frame with a decorative border. Recd—June 25, 2004. Est. Value—$70. Archives Foreign
| Household item: 5″ x 5″ yellow ceramic soap dish painted with a multicolored country home in the center. Recd—June 25, 2004. Est. Value—$26. Archives Foreign
| Consumables: a variety of consumables, including crackers, cheese and chocolate. Recd—June 25, 2004. Est. Value—Not Applicable. Handled pursuant to Secret Service Policy
| Household item: 36″ x 20″ x 20″ brown wicker trunk. Recd—June 25, 2004. Est. Value—$579. Archives Foreign
| Paperback book: “The Worst-Case Scenario Survival Handbook,” by Joshua Piven and David Borgenicht. Recd—June 25, 2004. Est. Value—$15. Archives Foreign
| Holiday item: 8″ x 4½″ x 7″ Department 56 brown log cabin wax candle; held on a 6″ x 9″ black iron base. Recd—June 25, 2004. Est. Value $60. Handled pursuant to Secret Service Policy
President | Household item: 73″ x 48″ red, blue, ivory, and olive silk Turkish kilim in an Anatolian pattern. Recd—June 27, 2004. Est. Value—$350. Archives Foreign | His Excellency Ahmet Needet Sezer, The President of the Republic of Turkey and Mrs. Sezer | Non-acceptance would cause embarrassment to donor and U.S. Government.
| Hardcover book: 13″ x 17″ copy of “Gardens of Paradise; 16th Century Turkish Ceramic Decoration,” by Walter Denny. Recd—June 27, 2004. Est. Value—$549. Archives Foreign
| Miscellaneous: 8″ x 4″ Pasabahce white and blue Turkish curvilinear glass container with white and cobalt swirl design; accompanied by a 1½″ blue glass lid carved with NATO symbol. Recd—June 27, 2004. Est. Value—$100. Archives Foreign
| Photographs (40): 7½″ x 9½″ color photographs of President and Mrs. Bush's visit with donors in Istanbul, Turkey on June 26-27, 2004; held in a 10″ x 12″ blue leather album. Recd—June 27, 2004. Est. Value—$137. Archives Foreign
President | Miscellaneous: 12″ x 10″ ornate silver tray engraved “Syrian Orthodox Archdiocese of Istanbul and Ankara,” with rounded edges and intricate designs along the border. Recd—June 27, 2004. Est. Value—$450. Archives Foreign | The Most Reverend Yusuf Syrian, Orthodox Metropolitan Istanbul, Turkey | Non-acceptance would cause embarrassment to donor and U.S. Government.
| Paperback book: “The Spiritual Treasure of Canonical Prayer,” published by The Archdiocese of the Syrian Orthodox Church; inscribed by donor. Recd—June 27, 2004. Est. Value—$5. Archives Foreign
| Paperback book: “5500 Syrians: Years” Witnesses,” by Kenan Altinisik, inscribed by donor. Recd—June 27, 2004. Est. Value—$10. Archives Foreign
| Hardcover book: “Deyrul Zafaran: Monestary Restoration and Protection Association,” edited by Cemil Tahincioglu. Recd—June 27, 2004. Est. Value—$250. Archives Foreign
| Plaque: 4″ x 6″ brass plaque engraved with the Lord's Prayer in Arabic. Recd—June 27, 2004. Est. Value—$35. Archives Foreign
President | Miscellaneous: 15″ x 15″ engraved silver calligraphic Quranic verse, “When you judge between people you judge with justice,” bordered with blue, orange and green hand painted floral tile; held in a 21″ x 21″ gold-tone wood shadow box frame with green and purple matting. Recd—June 27, 2004. Est. Value—$350. Archives Foreign | Dr. Ali Bardakoglu, President of Religious Affairs Directorate General Ankara, Turkey | Non-acceptance would cause embarrassment to donor and U.S. Government.
| Religious item: 13″ black prayer beads inlaid with mother-of-pearl and silver. Recd—June 27, 2004. Est. Value—$150. Archives Foreign
President | Miscellaneous: 14″ x 7″ Yildiz black, grey, white and silver porcelain bowl with an ornate leaf pattern; accompanied by a matching 14″ x 5″ lid with a black porcelain leaf-shaped handle. Recd—June 27, 2004. Est. Value—$250. Archives Foreign | His Excellency Recep Tayyip Erdogan, Prime Minister of the Republic of Turkey | Non-acceptance would cause embarrassment to donor and U.S. Government.
| Photographs and CD: 7½″ x 9½″ color photographs (40) of President and Mrs. Bush's visit with the donor in Istanbul, Turkey on June 27, 2004; held in a 10″ x 12″ red leather album. Recd—June 27, 2004. Est. Value—$137. Archives Foreign
President | Consumables (36): 750 ml. bottles of 1998 Chateau Tellagh Algerian red wine (6), 750 ml. bottles of Cuvee du President Algerian red wine (6) and 750 ml. bottles of 2001 Domaine Sebra Algerian red wine. Recd—June 30, 2004. Est. Value—$420. Handled pursuant to Secret Service policy | His Excellency Abdelaziz Bouteflika, President of the Democratic Republic of Algeria | Non-acceptance would cause embarrassment to donor and U.S. Government.
| Miscellaneous: 10″ x 9″ silver filigree boat inlaid with coral stones on the sails. Recd—June 30, 2004. Est. Value—$500. Archives Foreign
| Miscellaneous: 11½″ x 22½″ multicolored ceramic urn with silver-tone and coral detailing. Recd—June 30, 2004. Est. Value $125. Archives Foreign
President | Miscellaneous (2): 4½″ x 3″ blue, aqua and grey ceramic bowls with gold accents; accompanied by matching 4½″ x 3½″ lids with engraved gold handles. Recd—July 8, 2004. Est. Value—$15,000. Archives Foreign | His Majesty Mohammed VI, King of Morocco | Non-acceptance would cause embarrassment to donor and U.S. Government.
| Miscellaneous (2): 5″ x 7½″ x 9″ ornate silver stirrups with 18kt gold accents and inlaid with rubies and emeralds. Recd—July 8, 2004. Est. Value $15,000. Archives Foreign
President | Clothing: Gobi black cashmere long-sleeve v-neck sweater with a 12″ x 60″ matching cashmere muffler. Recd—July 15, 2004. Est. Value—$175. Archives Foreign | His Excellency N. Bagabandi, President of Mongolia and Mrs. A. Oyunbileg | Non-acceptance would cause embarrassment to donor and U.S. Government.
| Game: 20″ x 20″ multicolored wood chess set containing pieces carved in traditional Mongolian designs. Recd—July 15, 2004. Ext. Value—$150. Archives Foreign
President | Weapon: 13″ curved dagger with a sterling silver, gold and amethyst handle and a 14″ sterling silver and gold sheath etched with a floral pattern; held in a clear acrylic and velvet display case with presentation plates engraved “Presented by Abdullah bin Haji Ahmad Badawi, Prime Minister of Malaysia,” “Traditional Malay Weapon `Kris Tapak Kuda,' ” and “Keris Tapak Kuda.” Recd—July 19, 2004. Est. Value—$750. Archives Foreign | His Excellency YAB Dato' Seri Abdullah bin Ahmad Badawi, Prime Minister of Malaysia | Non-acceptance would cause embarrassment to donor and U.S. Government.
President | Smoking accessories (33): 6″ cigars. Recd—July 30, 2004. Est. Value—$660. Handled pursuant to Secret Service policy | His Excellency Nunzio Alfredo D'Angieri, Ambassador of Belize to Italy | Non-acceptance would cause embarrassment to donor and U.S. Government.
| Smoking accessory: 12″ x 14″ x 6″ lacquered cherry wood humidor with “GWB” inlaid in silver. Recd—July 30, 2004. Est. Value—$200. Archives Foreign
President | Household accessory: 22″ white, orange, blue, red, and green round marble tabletop inlaid with red, coral, malachite, lapis lazuli, mother-of-pearl, turquoise and agate flowers; held on a 15″ x 15″ folding wooden base. Recd—September 22, 2004. Est. Value $550. Archives Foreign | His Excellency Manmohan Singh, Prime Minister of the Republic of India | Non-acceptance would cause embarrassment to donor and U.S. Government.
President | Coffee service (5): 2″ x 3″ ceramic coffee cups with ornate sterling silver liners (2); 3½″ sterling silver saucers (2); and a 10″ x 8″ sterling silver rectangular platter with beaded edges and detailed handles. Recd—September 29, 2004. Est. Value—$104. Archives Foreign | His Excellency Abdullah Gul, The Deputy Prime Minister and Minister of Foreign Affairs of the Republic of Turkey and Mrs. Gul | Non-acceptance would cause embarrassment to donor and U.S. Government.
| Household accessory: 4″ x 9″ tin Turkish coffee server with a 6″ wooden handle and engraved with a geometric pattern. Recd—September 29, 2004. Est. Value—$66. Archives Foreign
| Consumable: 250 grams of Turkish coffee. Recd—September 29, 2004. Est. Value—$10. Handled pursuant to Secret Service policy
| Household accessory: 16″ x 16″ gold-tone, taupe, and pink tapestry table runner with 3″ silk fringe. Recd—September 29, 2004. Est. Value—$170. Archives Foreign
President | Household accessories (48): 8″ round red, black, gold, pink, green, and blue Thai porcelain plates painted with an ornate floral pattern (6); 10″ round red, black, gold, pink, green, and blue Thai porcelain plates painted with an ornate floral pattern (6); 12″ round red, black, gold, pink, green, and blue Thai porcelain plates painted “GWB” with an ornate floral pattern (6); 5″ x 2½″ red, black, gold, pink, green, and blue Thai porcelain plates painted with an ornate floral pattern (6); 7″ red, black, gold, pink, green, and blue Thai porcelain plates painted with an ornate floral pattern (6); 6¾″ red, black, gold, pink, green, and blue Thai porcelain plates painted with an ornate floral pattern (6); 6¾″ red, black, gold, pink, green, and blue Thai porcelain plates painted with an ornate floral pattern (6); 2½″ x 2½″ red, black, gold, pink, green, and blue Thai porcelain coffee cups painted with an ornate floral pattern (6). Recd—October 5, 2004. Est. Value $480. Archives Foreign | His Excellency Thaksin Shinawatra, Prime Minister of the Kingdom of Thailand | Non-acceptance would cause embarrassment to donor and U.S. Government.
| Miscellaneous: 14½″ x 33″ x 39″ wooden china display box with navy blue velvet lining. Recd—October 5, 2004. Est. Value—$200. Archives Foreign
President | Consumables (24): 750 ml. bottles of Coteaux de Mascara Domaine el Bordj (6); 750 ml. bottles of Chateau Tellagh Medea (8); and 750 ml. bottles of Cuvee du President Vin D'Algerie (10). Recd—October 22, 2004. Est. Value—$238. Handled pursuant to Secret Service policy | His Excellency Abdelaziz Bouteflika, President of the People's Democratic Republic of Algeria | Non-acceptance would cause embarrassment to donor and U.S. Government.
| Weapon: 31″ silver sword ornately engraved with a geometrical design and inlaid with wooden geometrical shapes; held in a 26″ sheath with two 2″ hinged loops for hanging. Recd—October 22, 2004. Est. Value—$2500. Archives Foreign
| Household accessory: 81″ x 127″ hand-tied red, yellow, burgundy, and green wool rug with a small geometric pattern and a 4″ beige fringe. Recd—October 22, 2004. Est. Value—$700. Archives Foreign
President | Hardcover book (facsimile of 1812 edition): “Aurora de Chile,” published by the Sociedad de Biblofilos Chilenos. Recd—November 21, 2004. Est. Value—$50. Archives Foreign | His Excellency Ricardo Lagos Escobar, President of the Republic of Chile | Non-acceptance would cause embarrassment to donor and U.S. Government.
| Artwork (3): 13″ x 13″ matted engraving of wood block print with accompanying poems, by Gabriela Mistral and Pablo Neruda, of a panther and a duck in the desert; 13″ x 13″ matted engraving of wood block print with accompanying poems, by Gabriela Mistral and Pablo Neruda, of a vulture, sparrow, and a palm tree with mountains in the background; and 13″ x 13″ matted engraving of wood block print with accompanying poems, by Gabriela Mistral and Pablo Neruda, of a deer, two fish, and a tree. Recd—November 21, 2004. Est. Value—$450. Archives Foreign
| Photograph: 16″ x 20″ color photograph of President Bush and world leaders at 2004 APEC Summit in Santiago, Chile; matting signed by donor and wooden frame engraved “XII APEC ECONOMIC LEADERS' MEETING, Santiago—Chile—November 2004.” Recd—November 21, 2004. Est. Value—$261. Archives Foreign
President | Collectable: 10″ x 8″ x 2″ silver, gold, and wood hinged box engraved with an image of the Royal Palace of Spain on the top and with donor's signature inside. Recd—November 24, 2004. Est. Value—$750. Archives Foreign | His Majesty Juan Carlos I, King of Spain | Non-acceptance would cause embarrassment to donor and U.S. Government.
President | Collectable: 7″ gold-tone, white and black enamel, and stainless steel Hour Lavigne clock with a hinged back opening to an image of Bahrain. Recd—November 29, 2004. Est. Value—$140. Archives Foreign | His Majesty Hamad Bin Isa Bin Salman Al-Khalifa, King of the Kingdom of Bahrain | Non-acceptance would cause embarrassment to donor and U.S. Government.
| Weapon: 9″ stainless steel and gold-tone knife with malachite handle and stamped with the seal of the Kingdom of Bahrain. Recd—November 29, 2004. Est. Value—$400. Archives Foreign
President | Athletic equipment: 34″ black and brown wooden Sam Bats baseball bat engraved “Texas Rangers, Prez 43, George W. Bush, Future Commissioner MLB, Presented by The Right Hon. Paul Martin, Ottawa, Canada, November 30, 2004.” Recd—November 30, 2004. Est. Value $111. Archives Foreign | The Right Honorable Paul Martin, PC, MP, Prime Minister of Canada | Non-acceptance would cause embarrassment to donor and U.S. Government.
| Accessories: pair of 3/4″ white and yellow 14kt gold maple leaf cufflinks. Recd—November 30, 2004. Est. Value—$800. Archives Foreign
President | Household accessories (3): 21″ x 44″ x 20″ dark wood table ornately inlaid with bone; and 22″ x 22″ x 20½″ dark wood end table ornately inlaid with bone (2). Recd—December 4, 2004. Est. Value $1400. Archives Foreign | His Excellency Pervez Musharraf, President of the Islamic Republic of Pakistan | Non-acceptance would cause embarrassment to donor and U.S. Government.
| Weapon: 52″ x 8″ antique muzzle loader (circa mid-1800s); held in a 20″ x 62″ wooden shadowbox with a 4″ x 3″ plaque engraved “Presented by General Pervez Musharraf, President, Islamic Republic of Pakistan.” Recd—December 4, 2004. Est. Value—$725. Archives Foreign
| Clothing: cream wool traditional Pakistani coat embroidered with a satin ornate design. Recd—December 4, 2004. Est. Value—$175. Archives Foreign
| Accessory: 10″ cream wool traditional Pakistani hat. Recd—December 4, 2004. Est. Value—$65. Archives Foreign
President | Weapons (11): Maynard Revolver; Colt Revolver (circa 1884); Colt Police Revolver (circa 1860); Remington Double Derringer Pistol; Sharps Flint-Ignition Pistol (circa 1780); Winchester Lever-Action Repeating Carbine (circa 1866); Colt Navy (circa 1851); Pistol from Lowell, Massachusetts (circa 1858); Colt Derringer, Sharps 4 Barrel Pocket Pistol; and Wesson and Harrington Pocket Revolver (circa 1871); all held in a 23″ x 43″ hinged wooden box. Recd—December 6, 2004. Est. Value—$12,000. Archives Foreign | His Majesty King Abdullah II of the Hashemite Kingdom of Jordan | Non-acceptance would cause embarrassment to donor and U.S. Government.
| Miscellaneous (6): 4″ jars of various fertilizers; held on a 12″ x 15″ wooden revolving display. Recd—December 6, 2004. Est. Value $60. Archives Foreign
| Weapon: 50″ x 8½″ black Dakota Arms sniper rifle with an 8″ scope; held in a metal hinged box embroidered on the inside “To My Dear Friend, George W. Bush, Abdullah II” with a Jordanian crown and the Great Seal. Recd December 6, 2004. Est. Value—$10000. Archives Foreign
President | Jewelry: 18kt yellow gold Cartier Santos 100 watch with a square face, Roman numeral hour markers, and a brown alligator band. Recd—December 16, 2004. Est. Value—$4200. Archives Foreign | His Excellency Silvio Berlusconi, President of the Council of Ministers of the Italian Republic | Non-acceptance would cause embarrassment to donor and U.S. Government.
| Accessories (12): variety of E. Marinella silk ties. Recd—December 16, 2004. Est. Value—$1620. Archives Foreign
President | Miscellaneous: 20½″ x 16″ red and white leather chest with hinged lid; padded interior with a two-tiered leather lined wood tray. Recd—December 17, 2004. Est. Value—$280. Archives Foreign | His Excellency Zine El Abidine Ben Ali, President of the Republic of Tunisia | Non-acceptance would cause embarrassment to donor and U.S. Government.
| Consumables: ten pounds of Tunisian dates. Recd—December 17, 2004. Est. Value—$60. Handled pursuant to Secret Service policy
| Consumables (6): bottles of Les Vignes de Tánit wine (2 Rose, 2 Blanc, 2 Rouge). Recd—December 17, 2004. Est. Value—$48. Archives Foreign
| Consumables (8): liter bottles of Tunisian olive oil. Recd—December 17, 2004. Est. Value—$28. Handled pursuant to Secret Service policy
President | Household: 3½″ x 4″ round frosted glass containers with “Savour Jordan.” Recd—December 22, 2004. Est. Value—$30. Archives Foreign | Their Majesties King Abdullah II and Queen Rania al Abdullah of the Hashemite Kingdom of Jordan | Non-acceptance would cause embarrassment to donor and U.S. Government.
| Miscellaneous (2): myrtle flower scented candles. Recd—December 22, 2004. Est. Value—$20. Handled pursuant to Secret Service Policy
| Accessory: 2½″ circular sterling silver lapel pin stamped “we must reach back to the greatest traditions of our civilizations * * * reach forward to the new insights and capabilities that will improve life * * * and we must reach out to each other.” Recd—December 22, 2004. Est. Value—$75. Archives Foreign
| Household accessories (3): 3″ hammered sterling silver miniature urns. Recd—December 22, 2004. Est. Value—$250. Archives Foreign
| Desk accessories (3): silver, gold and beige journals stamped with a palm pattern and with accompanying silver-tone bookmarks. Recd—December 22, 2004. Est. Value—$96. Archives Foreign
| Collectable: 9″ x 9″ gold, yellow, green, and red square Rosenthal porcelain plate painted with an ornate design with Arabic characters. Recd—December 22, 2004. Est. Value—$100. Archives Foreign
First Lady | Household item: 6″ Royal Copenhagen blue fluted half lace china dish with the Royal cipher of Denmark in the center. Recd—January 14, 2004. Est. Value—$250. Archives Foreign | Her Royal Highness Princess Alexandra of Denmark | Non-acceptance would cause embarrassment to donor and U.S. Government.
| Photograph: 4″ x 6″ photograph of Princess Alexandra of Denmark; held in a 6″ x 9″ wood frame engraved with the Royal cipher on a silver square plate. Recd—January 14, 2004. Est. Value—$100. Archives Foreign
First Lady | Accessory: 12″ x 9¾″ Loewe brown suede and leather handbag. Recd—January 14, 2004. Est. Value—$590. Archives Foreign | His Excellency Jose Maria Aznar, President of the Government of Spain and Mrs. Aznar | Non-acceptance would cause embarrassment to donor and U.S. Government.
First Lady | Jewelry: 13½″ x 1½″ Atasay black leather and fur choker with traditional Sanliurfa simra 14kt gold draping chains and open work. Recd—January 28, 2004. Est. Value—$500. Archives Foreign | Mrs. Ermine Erdogan, Office of the Prime Minister of the Republic of Turkey | Non-acceptance would cause embarrassment to donor and U.S. Government.
| Hardcover books (2): “Rumi Hidden Music,” translated by Maryam Mafi and Azima Melita Kolin; and “Rumi: The Book of Love,” translated by Coleman Barks. Recd—January 28, 2004. Est. Value—$44. Archives Foreign
| Paperback book: “The Rumi Collection,” edited by Kabir Helminski. Recd—January 28, 2004. Est. Value—$15. Archives Foreign
First Lady | Household item: 10″ x 3″ x 14″ elaborate silver filigree vanity mirror. Recd—February 18, 2004. Est. Value—$750. Archives Foreign | Mrs. Leila Ben Ali, Office of the President of the Republic of Tunisia | Non-acceptance would cause embarrassment to donor and U.S. Government.
First Lady | Household items (7): Louise Kennedy Tipperary Crystal napkin rings (6) from the Earth Star Collection; accompanied by a 10″ x 2″ crystal stand. Recd—March 17, 2004. Est. Value—$162. Archives Foreign | His Excellency Bertie Ahern, TD, Prime Minister of Ireland | Non-acceptance would cause embarrassment to donor and U.S. Government.
First Lady | CD: “Paz, Reconciliacao (Peace, Reconciliation),” by Angola Unida. Recd—May 12, 2004. Est. Value—$15. Archives Foreign | Mrs. Ana Paula dos Santos, First Lady of the Republic of Angola | Non-acceptance would cause embarrassment to donor and U.S. Government.
| Artwork: 37″ x 54″ multi-colored acrylic painting on velvet of a woman grinding grain in a village. Recd—May 12, 2004. Est. Value—$550. Archives Foreign
First Lady | Household items (7): 53″ x 89″ multicolored splatter painted white linen tablecloth with orange trim; accompanied by matching 18″ x 12″ orange linen napkins (2) and 14″ x 12″ white linen napkins (4). Recd—May 26, 2004. Est. Value—$150. Archives Foreign | Mrs. Edith Lucie Bongo Ondimba, First Lady of the Gabonese Republic | Non-acceptance would cause embarrassment to donor and U.S. Government.
| Jewelry: 3 ½″ x 2″ 18kt gold intricate mask brooch inlaid with diamonds and emeralds. Recd—May 26, 2004. Est. Value—$1500. Archives Foreign
| Household items (2): 19″ x 15″ raffia pillows with fringe. Recd—May 26, 2004. Est. Value—$120. Archives Foreign
| Household items (2): 18″ x 14″ raffia pillows lined in brown and navy blue leather. Recd—May 26, 2004. Est. Value—$120. Archives Foreign
First Lady | Jewelry: 7″ white gold chain link bracelet inlaid with diamonds. Recd—June 4, 2004. Est. Value $3850. Archives Foreign | Mrs. Veronica Berlusconi, Office of the President of the Council of Ministers of the Italian Republic | Non-acceptance would cause embarrassment to donor and U.S. Government.
First Lady | Religious item: 22½″ silver filigree rosary. Recd—June 4, 2004. Est. Value—$75. Archives Foreign | His Holiness Pope John Paul II, Vatican City | Non-acceptance would cause embarrassment to donor and U.S. Government.
First Lady | Accessory: 8″ x 4″ Chanel beige leather purse with a gold chain strap. Recd—June 5, 2004. Est. Value—$1150. Archives Foreign | Mrs. Bernadette Chirac, Office of the President of the French Republic | Non-acceptance would cause embarrassment to donor and U.S. Government.
First Lady | Household items (6): 18″ x 18″ gray linen napkins embroidered with a paisley design in the corner (6); accompanied by 1″ sterling silver napkin rings engraved “Moscow” in Russian (6). Recd—June 8, 2004. Est. Value $543. Archives Foreign | Mrs. Lyudmila Aleksandrovna Putina, Office of the President of the Russian Federation | Non-acceptance would cause embarrassment to donor and U.S. Government.
First Lady | Accessory: 4″ x 1½″ x 3″ sterling silver clutch purse with floral designs in relief. Recd—June 9, 2004. Est. Value—$350. Archives Foreign | Mrs. Emine Erdogan, Office of the Prime Minister of the Republic of Turkey | Non-acceptance would cause embarrassment to donor and U.S. Government.
First Lady | Collectable: 7″ x 6″ gold-tone and multi-colored Herend Queen Anne covered tureen with a rose handle and painted with butterflies and flowers. Recd—June 22, 2004. Est. Value—$740. Archives Foreign | His Excellency Peter Medgyessy, Prime Minister of the Republic of Hungary | Non-acceptance would cause embarrassment to donor and U.S. Government.
First Lady | Household item: 9½″ baby blue textured earthenware clay bowl with gold wiring along the edge, by Ann Marie Brannigan. Recd—June 25, 2004. Est. Value—$469. Archives Foreign | Her Excellency Dr. Mary McAleese, The President of Ireland | Non-acceptance would cause embarrassment to donor and U.S. Government.
First Lady | Household item: 72″ x 144″ Ferguson's white linen damask tablecloth. Recd—June 25, 2004. Est. Value—$318. Archives Foreign | His Excellency Bertie Ahern, TD Prime Minister of Ireland | Non-acceptance would cause embarrassment to donor and U.S. Government.
| Household items (12): 18″ x 18″ Ferguson's white linen napkins. Recd—June 25, 2004. Est. Value—$183. Archives Foreign
First Lady | Household item: 7″ x 3″ Urart sterling silver bowl with a 7″ sterling silver lid engraved with scenes of Topkapi Palace, Galata and the Maiden Towers Fortresses. Recd—June 27, 2004. Est. Value—$450. Archives Foreign | His Excellency Ahmet Necdet Sezer, The President of the Republic of Turkey | Non-acceptance would cause embarrassment to donor and U.S. Government.
| Consumables: Divan Turkish candy. Recd—June 27, 2004. Est. Value: $10. Handled pursuant to Secret Service policy
First Lady | Accessory: 6″ x 3″ x2 ″ Mounier & Bouvard 18kt gold filigree evening clutch purse inlaid with diamonds on the edge and clasp. Recd—July 8, 2004. Est. Value—$12,500. Archives Foreign | His Majesty Mohammed VI, King of Morocco | Non-acceptance would cause embarrassment to donor and U.S. Government.
First Lady | Hardcover book: first edition (1943) copy of “The Little Prince,” by Antoine de Saint-Exupery and signed by author. Recd—July 12, 2004. Est. Value—$875. Archives Foreign | His Excellency Peter Medgyessy, Prime Minister of the Republic of Hungary | Non-acceptance would cause embarrassment to donor and U.S. Government.
First Lady | Clothing: long tan cashmere sweater coat made in Buyan. Recd—July 15,2004. Est. Value—$420. Archives Foreign | His Excellency N. Bagabandi, President of Mongolia and Mrs. A. Oyunbileg | Non-acceptance would cause embarrassment to donor and U.S. Government.
First Lady | Household items (2): 24″ x 69″ light blue and royal blue silk table runners with an intricate thread design and fringe. Recd—July 15, 2004. Est. Value—$500. Archives Foreign | His Excellency George A. Obiozor, Ambassador of the Federal Republic of Nigeria | Non-acceptance would cause embarrassment to donor and U.S. Government.
First Lady | Hardcover books (3): “O-Kee-Pa: A Religious Ceremony and Other Customs of the Mandan,” by George Catlin (published in 1867); and “North American Indians, Volumes I and II,” by George Catlin (published 1913). Recd—November 4, 2004. Est. Value—$450. Archives Foreign | His Majesty Mohammed VI, King of Morocco | Non-acceptance would cause embarrassment to donor and U.S. Government.
First Lady | Accessory: brown, beige, and blue silk scarf printed “APEC 2004, Chile” with an abstract pattern. Recd—November 17, 2004. Est. Value—$135. Archives Foreign.
| Accessory: brown alpaca scarf with a 5″ fringe. Recd—November 17, 2004. Est. Value—$65. Archives Foreign | Mrs. Luisa Duran de Lagos, First Lady of the Republic of Chile | Non-acceptance would cause embarrassment to donor and U.S. Government.
First Lady | Jewelry: 1¼″ gold, light and dark pink garnet and pink tourmaline chandelier earrings; and a 17″ light and dark pink garnet and pink tourmaline beaded necklace. Recd—November 19, 2004. Est. Value—$500. Archives Foreign | Mrs. Sehba Musharraf, First Lady of the Islamic Republic of Pakistan | Non-acceptance would cause embarrassment to donor and U.S. Government.
First Lady | Collectable: 7″ sterling silver bowl stamped with an ornate design. Recd—November 20, 2004. Est. Value—$350. Archives Foreign | Mrs. Marta Sahagun de Fox, First Lady of the United Mexican States | Non-acceptance would cause embarrassment to donor and U.S. Government.
First Lady | Accessory: yellow and white 14kt gold maple leaf lapel pin. Recd—November 30, 2004. Est. Value—$1,000. Archives Foreign.
| Accessory: blue, green and rose silk scarf. Recd—November 30, 2004. Est. Value—$79. Archives Foreign | Mrs. Sheila Martin, Office of the Prime Minister of Canada | Non-acceptance would cause embarrassment to donor and U.S. Government.
First Lady | Accessory: Black satin evening bag with a turquoise, red coral, quartz and carnelian handle. Recd—December 1, 2004. Est. Value—$140. Archives Foreign.
| Accessory: Loewe scarf. Recd—December 1, 2004. Est. Value—$295. Archives Foreign | Her Majesty Queen Sofia Carlos, Queen of Spain | Non-acceptance would cause embarrassment to donor and U.S. Government.
First Lady | Collectable: sterling silver bowl with ornate design. Recd—December 4, 2004. Est. Value—$350. Archives Foreign | His Excellency Pervez Musharraf, President of the Islamic Republic of Pakistan | Non-acceptance would cause embarrassment to donor and U.S. Government.
First Family | Photograph of APEC leaders in October 2003 wearing traditional Thai clothing in sterling silver frame. Recd—January 30, 2004. Est. Value—$450. Archives Foreign | His Excellency Thaksin Shinawatra, The Prime Minister of the Kingdom of Thailand and Mrs. Khunying Shinawatra | Non-acceptance would cause embarrassment to donor and U.S. Government.
First Family | Plaza Real sterling silver and dark wood chest with sterling silver cactus designs in relief. Est. Value—$300 | His Excellency Vicente Fox Quesada, The President of the United Mexican States and Mrs. Fox | Non-acceptance would cause embarrassment to donor and U.S. Government.
| Tane silver leaf sculpture. Est. Value—$250
| Black wood tray, from Guerrero, Mexico, hand painted by Francisco Coronel; accompanied by the hardcover book, “Lacas Mexicanas”. Est. Value—$125. Recd—March 6, 2004. Archive Foreign
First Family | Argenta coconut shell bowl with sterling silver handles. Recd—March 23, 2004. Est. Value—$150. Archives Foreign | His Excellency Alvaro Uribe, President of the Republic of Columbia and Mrs. Lina Moreno de Uribe | Non-acceptance would cause embarrassment to donor and U.S. Government.
First Family | Bronze depiction of the Baptism of Christ held in a gold tone shadowbox frame lined in red velvet and containing a 2″ bronze replica of the papal crest. Recd—June 4, 2004. Est. Value—$450. Archives Foreign | His Holiness John Paul II, Vatican City | Non-acceptance would cause embarrassment to donor and U.S. Government.
First Family | Monnaie de Paris silver watches with black leather bands. Recd—June 5, 2004. Est. Value—$228. Archives Foreign | His Excellency Jacques Chirac, President of the French | Non-acceptance would cause embarrassment to donor and U.S. Government.
First Family | Beige pottery piece made by Paula Murray. Recd—June 8, 2004. Est. Value—$350. Archives Foreign | The Right Honorable Paul Martin, P.C., M.P., The Prime Minister of Canada and Mrs. Martin | Non-acceptance would cause embarrassment to donor and U.S. Government.
First Family | Coins (5): 1¼″ Bahrain 22kt gold coins engraved with “The Great Bahraini Rulers.” Recd—June 9, 2004. Est. Value—$2000. Archives Foreign | His Majesty Hamad Bin Isa Bin Salman Al-Khalifa, King of the Kingdom of Bahrain | Non-acceptance would cause embarrassment to donor and U.S. Government.
| Leather bound book and CD: “Brief Astronomical Biography of His Excellency The Hon. George W. Bush, President of the United States of America.” Recd—June 9, 2004. Est. Value—$100. Archives Foreign
| Photograph: 12″ x 7″ inscribed color photograph of the donor and the Queen of Bahrain; held in a 15″ x 12″ gold-tone wood frame with red and beige suede matting. Recd—June 9, 2004. Est. Value—$76. Archives Foreign
First Family | Clothing: John Molloy traditional ivory wool Aran women's sweater with brown buttons; accompanied by a House of Ireland traditional ivory wool Aran men's sweater. Recd—June 25, 2004. Est. Value—$285. Archives Foreign | His Excellency Bertie Ahern, TD, Prime Minster of Ireland | Non-acceptance would cause embarrassment to donor and U.S. Government.
First Family | Photographs (29): collection of 9″ x 7″ photographs, taken by Prince Roland Bonaparte in 1888, of various Native Americans; mounted on albumen paper stamped with Prince Bonaparte's seal and held in a 16½″ x 14″ tan leather book binding embossed “Photographic Portraits of North American Indians, Prince Roland Bonaparte.” Recd—November 4, 2004. Est. Value—$600. Archives Foreign | His Majesty Mohammed VI, King of Morocco | Non-acceptance would cause embarrassment to donor and U.S. Government.
First Family | Collectable: 8″ x 5″ Steuben Glass figurine of an elephant with its trunk raised in the air. Recd—December 8, 2004. Est. Value—$1100. Archives Foreign | His Excellency Sheikh Salem Abdullah Al Jaber Al-Sabah, Ambassador of the State of Kuwait and Mrs. Al-Sabah | Non-acceptance would cause embarrassment to donor and U.S. Government.
Abrams, Elliott, Special Assistant to the President and Senior Director National Security Council | Desk accessory: Mont Blanc Meisterstuck Solitaire Doue Black Silver Fountain Pen. Recd—March 29, 2004. Est. Value—$425. Government Property | His Majesty King Abdullah II of the Hashemite Kingdom of Jordan | Non-acceptance would cause embarrassment to donor and U.S. Government.
Abrams, Elliott, Special Assistant to the President and Senior Director National Security Council | Desk accessory: Mont Blanc Hommage a Alexander the Great solid gold fountain pen with diamond on clip and 18kt gold nib. Received—March 30, 2004. Est. Value—$5690. Government Property | His Highness Sheikh Hamad bin Khalifa Al Thani Amir of the State of Qatar | Non-acceptance would cause embarrassment to donor and U.S. Government
Bartlett, Daniel J., Assistant to the President for Communications | Accessories (5): E. Marinella silk twill neckties. Recd—June 4, 2004. Est. Value—$675. Government Property | His Excellency Silvio Berlusconi, President of the Council of Ministers of the Italian Republic | Non-acceptance would cause embarrassment to donor and U.S. Government.
Card, Andrew H., Jr., Assistant to the President and Chief of Staff | Accessories (5): E. Marinella silk twill neckties. Recd—June 4, 2004. Est. Value—$675. Government Property | His Excellency Silvio Berlusconi, President of the Council of Ministers of the Italian Republic | Non-acceptance would cause embarrassment to donor and U.S. Government.
Card, Andrew H., Jr., Assistant to the President and Chief of Staff | Accessories (5): E. Marinella silk twill neckties. Recd—December 15, 2004. Est. Value—$675. Government Property | His Excellency Silvio Berlusconi, President of the Council of Ministers of the Italian Republic | Non-acceptance would cause embarrassment to donor and U.S. Government.
Cooper, Cathy, Administrative Assistant National Security Council | Jewelry (2): matching necklace and bracelet sets of silver and orange stone; one set has matching ring. Recd—March 29, 2004. Est. Value—$500. Government Property | His Excellency Abdulwahab A. Al-Hajjri, Ambassador of the Republic of Yemen | Non-acceptance would cause embarrassment to donor and U.S. Government.
Frazer, Jendayi, Special Assistant to the President and Senior Director National Security Council | Household: 8′ round leather area rug with a detailed pattern in blue, red, gold and white. Recd—June 1, 2004. Est. Value—$450. Transferred to the General Services Administration | His Excellency Jibril Muhammad Aminu, Ambassador of the Federal Republic of Nigeria | Non-acceptance would cause embarrassment to donor and U.S. Government.
Fried, Daniel, Special Assistant to the President and Senior Director National Security Council | Accessories (3): E. Marinella silk twill neckties. Recd—May 19, 2004. Est. Value—$405. Government Property | His Excellency Silvio Berlusconi, President of the Council of Ministers of the Italian Republic | Non-acceptance would cause embarrassment to donor and U.S. Government.
Green, Michael J., Special Assistant to the President and Senior Director National Security Council | Household: 7⅝″ x 4½″ sterling silver bowl with scalloped rim, set with 1″ gold and enamel seal of donor. Recd—December 14, 2004. Est. Value—$500. Government Property | His Excellency Pervez Musharraf, President of the Islamic Republic of Pakistan | Non-acceptance would cause embarrassment to donor and U.S. Government
Hadley, Stephen Deputy Assistant to the President and Deputy National Security Advisor | Desk accessory: 10½″ x 11″ x 2″ sterling silver model sailing vessel, double masted, trimmed with three sails, rigging, rudder and anchor mounted on an oval black 9″ x 4″ wood base with silver plaque engraved “Ministry of Foreign Affairs & Investment Promotion Malta.” Recd—May 20, 2004. Est. Value—$450. Government Property | The Honorable John Dalli, Minister of Foreign Affairs of the Republic of Malta | Non-acceptance would cause embarrassment to donor and U.S. Government.
Hadley, Stephen, Deputy Assistant to the President and Deputy National Security Advisor | Household: 7⅝″ × 4½″ silver bowl with scalloped rim, set with 1″ gold and enamel seal of donor. Recd—December 15, 2004. Est. Value—$500. Government Property | His Excellency Pervez Musharraf, President of the Islamic Republic of Pakistan | Non-acceptance would cause embarrassment to donor and U.S. Government.
McClellan, Scott, Assistant to the President and Press Secretary | Accessories (5): E. Marinella silk twill neckties. Recd-May 19, 2005 Est. Value—$675. Government Property | His Excellency Silvio Berlusconi, President of the Council fo Ministers of the Italian Republic | Non-acceptance would cause embarrassment to donor and U.S. Government.
McClellan, Scott, Assistant to the President and Press Secretary | Accessories (5): E. Marinella silk twill neckties. Recd—December 17, 2004. Est. Value—$675. Government Property | His Excellency Silvio Berlusconi, President of the Council of Ministers of the Italian Republic | Non-acceptance would cause embarrassment to donor and U.S. Government.
Miers, Harriet, Assistant to the President and Deputy Chief of Staff | Household: 10″ x 9½″ Archimede Seguso Gold Collection hand-blown Murano glass melon-ribbed vase and cachepot. Recd—May 19, 2004. Est. Value—$850. Government Property | His Excellency Silvio Berlusconi, President of the Council of Ministers of the Italian Republic | Non-acceptance would cause embarrassment to donor and U.S. Government.
Rice, Condoleezza, Assistant to the President for National Security Affairs | Accessory: 54″ square Hermes silk and cashmere scarf in multicolor rose pattern. Recd—January 15, 2004. Est. Value—$760. Government Property | Her Excellency Michele Alliot-Marie, Minister of Defense and War Veterans of the French Republic | Non-acceptance would cause embarrassment to donor and U.S. Government.
Rice, Condoleezza, Assistant to the President for National Security Affairs | Household: 6⅛″ x 2½″ x 3¼″ William & Son sterling silver L'Epee Corniche Standard carriage clock. Recd—February 13, 2004. Est. Value—$2095. Government Property | His Highness Igor Ivanov, Minister for Foreign Affairs of the Russian Federation and Head of the Bahrain Defense Force | Non-acceptance would cause embarrassment to donor and U.S. Government.
Rice, Condoleezza, Assistant to the President for National Security Affairs | Household: 10″ sterling silver-plate/wall plaque with embossed design, engraved “With compliments from Lakshman Kadirgamar Minister of Foreign Affairs Sri Lanka.” Recd—May 11, 2004. Est. Value—$350. Government Property | The Honorable Lakshman Kadirgamar, P.C., M.P., Minister of Foreign Affairs of the Democratic Socialist Republic of Sri Lanka | Non-acceptance would cause embarrassment to donor and U.S. Government.
Rice, Condoleezza, Assistant to the President for National Security Affairs | Hardcover book: 12⅜″ x 19″ x 1½″ velvet and leather-bound reproduction of the 1797 “Imperial Decree on the Russian Chevalier Orders,” issued by L.S. Pavel. Recd—May 15, 2004. Est. Value—$3850. Archives, Staff Gift | His Excellency Igor Ivanov, Minister for Foreign Affairs of the Russian Federation | Non-acceptance would cause embarrassment to donor and U.S. Government.
Rice, Condoleezza, Assistant to the President for National Security Affairs | Household (3): Archimede Seguso Gold Collection hand-blown Murano glass set (pair of 14″ x 5″ candlesticks and a footed 9″ x 10″ fruit compote). Recd—May 19, 2004 Est. Value—$2200 Government Property | His Excellency Silvio Berlusconi, President of the Council of Ministers of the Italian Republic | Non-acceptance would cause embarrassment to donor and U.S. Government.
Rice, Condoleezza, Assistant to the President for National Security Affairs. | Jewelry: ½″ x 1⅞″ 18kt gold mask pendant with emerald and diamonds held on a 16½″ gold wire band. Recd—May 26, 2004. Est. Value—$650. Government Property | His Excellency El Hadj Omar Bongo Ondimba, President of the Gabonese Republic | Non-acceptance would cause embarrassment to donor and U.S. Government.
Rice, Condoleezza, Assistant to the President for National Security Affairs | Household: 11¼″ x 10″ Archimede Seguso Gold Collection hand-blown Murano glass melon-ribbed vase. Recd—June 5, 2004. Est. Value—$850. Government Property | His Excellency Silvio Berlusconi, President of the Council of Ministers of the Italian Republic | Non-acceptance would cause embarrassment to donor and U.S. Government.
Rice, Condoleezza, Assistant to the President for National Security Affairs | Accessory: 50″ x 74″ red-orange Gobi cashmere throw with 4″ fringe. Recd—July 19, 2004. Est. Value—$125. Government Property | His Excellency N. Bagabandi, President of Mongolia and Mrs. A. Oyunbileg | Non-acceptance would cause embarrassment to donor and U.S. Government.
| Household: 4⅞″ x 2¼″ footed silver bowl with relief design and inset turquoise stones; etched with donor's name, title and date. Recd—July 19, 2004. Est. Value—$200. Government Property
Rice, Condoleezza, Assistant to the President for National Security Affairs | Household items (2): 24″ x 65″ woven pink and black silk matching table runners; pattern is an intricate thread design studded with rhinestones and gold thread accent and 4″ fringe. Recd—July 19, 2004. Est. Value—$500. Government Property | His Excellency George A. Obiozor, Ambassador of the Federal Republic of Nigeria | Non-acceptance would cause embarrassment to donor and U.S. Government.
Rice, Condoleezza, Assistant to the President for National Security Affairs | Desk accessory: Aurora Optima marbled blue (Auroloid) fountain pen with 14kt gold nib, jewel clip and gold-plated trim. Recd—December 8, 2004. Est. Value—$295. Government Property | His Excellency Giovanni Castellaneta, Diplomatic Advisor to the Prime Minister of the Italian Republic | Non-acceptance would cause embarrassment to donor and U.S. Government.
Rice, Condoleezza, Assistant to the President for National Security Affairs | Household: 77″ x 52″ purple, orange, yellow and black woven cloth with 7½″ tassels. Recd—December 8, 2004. Est. Value—$345. Government Property | His Excellency Kay Rala Xanana Gusmao, President of The Democratic Republic of Timor-Leste | Non-acceptance would cause embarrassment to donor and U.S. Government.
Rice, Condoleezza, Assistant to the President for National Security Affairs | Accessories (2): 35″ square E. Marinella silk scarf in peach, brown and blue pattern; and an 18½″ x 68″ wool and silk blend shawl in various colors. Recd—December 15, 2004. Est. Value—$587. Government Property | His Excellency Silvio Berlusconi, President of the Council of Ministers of the Italian Republic | Non-acceptance would cause embarrassment to donor and U.S. Government.
Rice, Condoleezza, Assistant to the President for National Security Affairs | Jewelry: pair of 18kt yellow gold Damiani twisted coil earrings with diamonds. Recd—December 15, 2004. Est. Value—$2550. Archives, Staff Gift | His Excellency Silvio Berlusconi, President of the Council of Ministers of the Italian Republic | Non-acceptance would cause embarrassment to donor and U.S. Government.
| Jewelry: 18kt yellow gold and diamond Damiani necklace in swirl design, Recd—December 15, 2004. Est. Value—$6000 Archives, Staff Gift
Rice, Condoleezza, Assistant to the President for National Security Affairs | Household: 20½″ x 16″ yellow and black ottoman-style leather chest with hinged lid; padded interior with a two-tiered leather lined wood tray. Recd—December 17, 2004. Est. Value—$280. Government Property | His Excellency Zine El Abidine Ben Ali, President of the Republic of Tunisia | Non-acceptance would cause embarrassment to donor and U.S. Government.
| Consumables: approximately 10 pounds of dates. Recd—December 17, 2004. Est. Value—$60. Handled pursuant to Secret Service policy
Rice, Condoleezza, Assistant to the President for National Security Affairs | Household (3): 2¾″ x 2″ silver urns in the style of ancient pottery. Recd—December 22, 2004. Est. Value—$250. Government Property | Their Majesties King Abdullah II and Queen Rania al Abdullah of the Hashemite Kingdom of Jordan | Non-acceptance would cause embarrassment to donor and U.S. Government.
| Jewelry: 2¼″ round silver and turquoise pin. Recd—December 22, 2004. Est. Value—$75. Government Property
| Miscellaneous: bound notebook with silver page marker. Recd—December 22, 2004 Est. Value—$32 Government Property
Rove, Karl, Senior Advisor to the President | Accessories (4): E. Marinella silk twill neckties. Recd—June 4, 2004. Est. Value—$540. Government Property | His Excellency Silvio Berlusconi, President of the Council of Ministers of the Italian Republic | Non-acceptance would cause embarrassment to donor and U.S. Government.
Volker, Kurt, Director for NATO and Western European Affairs National Security Council | Accessories (4): E. Marinella silk twill neckties. Recd—June 4, 2004. Est. Value—$540. Government Property | His Excellency Silvio Berlusconi, President of the Council of Ministers of the Italian Republic | Non-acceptance would cause embarrassment to donor and U.S. Government.

AGENCY: Office of the Vice President
[Report of Tangible Gifts]
Name and title of person accepting the gift on behalf of the U.S. Government | Gift, date of acceptance on behalf of the U.S. Government, estimated value, and current disposition or location | Identity of foreign donor and government | Circumstances justifying acceptance
Vice President | Chopard “Happy Day” clock. Recd—January 24, 2004. Est. Value—$465. Archives Foreign | His Excellency Joseph Deiss, President of the Swiss Confederation | Non-acceptance would cause embarrassment to donor and U.S. Government.
Vice President | Eleven E. Marinella silk neckties. Recd—January 26, 2004. Est. Value—$1,485. Archives Foreign | His Excellency Silvio Berlusconi, President of the Council of Ministers of the Italian Republic | Non-acceptance would cause embarrassment to donor and U.S. Government.
| One E. Marinella silk necktie. Recd—January 26, 2004. Est. Value—$135. Archives Foreign
Vice President and Mrs. Cheney | Fruit compote, two candle sticks, and large bowl of gold Murano glass signed by the artist, Archimede Seguso. Recd—January 26, 2004. Est. Value—$750. Archives Foreign | His Excellency Silvio Berlusconi, President of the Council of Ministers of the Italian Republic | Non-acceptance would cause embarrassment to donor and U.S. Government.
Mrs. Cheney | Woman's silver necklace by Damiani with gray pearls and diamond centerpiece. Recd—January 26, 2004. Est. Value—$2000. Archives Foreign | His Excellency Silvio Berlusconi, President of the Council of Ministers of the Italian Republic | Non-acceptance would cause embarrassment to donor and U.S. Government.
Vice President | Mantel clock of silver and marble Recd—February 9, 2004. Est. Value—$1500. Archives Foreign | His Highness Shaikh Salman Bin Hamad Al Khalifa, Crown Prince and Commander in Chief of the Bahrain Defense Force | Non-acceptance would cause embarrassment to donor and U.S. Government.
Vice President | Hand knotted wool pile rug in red, dark blue, green, turquoise and cream. A central red ground medallion with scattered geometric patterns, approximately 8'' x 10''. Recd—February 18, 2004. Est. Value—$3600. Archives Foreign | His Excellency Zine El Abidine Ben Ali, President of the Republic of Tunisia | Non-acceptance would cause embarrassment to donor and U.S. Government.
Vice President | Out of print copy limited issue of, The Art of War by Golden Treasure Books (Xiyuan Publishing House) presented in an ornate dark wooden box. Includes a silver chop (seal) in clear acrylic box. Recd—April 14, 2004. Est. Value—$3600. Archives Foreign | His Excellency Zeng Qinghong, Vice President of the People's Republic of China | Non-acceptance would cause embarrassment to donor and U.S. Government.
| Book entitled, Selected Porcelain of the Flourishing Qing Dynasty at the Palace Museum, by Forbidden City Publishing House. Recd—April 14, 2004. Est. Value—$44. Archives Foreign
Mrs. Cheney | Chinese silk material in shades of yellow, orange and lime green. Approximately 3.5 yards. Recd—April 14, 2004. Est. Value—$105. Archives Foreign | His Excellency Zeng Qinghong, Vice President of the People's Republic of China | Non-acceptance would cause embarrassment to donor and U.S. Government.
Vice President | Paskche gilt-on-bronze incense burner; reproduction of national treasure housed in the Puyo National Museum. Recd—April 15, 2004. Est. Value—$450. Archives Foreign | His Excellency Goh Kun, Acting President and Prime Minister Republic of Korea | Non-acceptance would cause embarrassment to donor and U.S. Government.
Vice President | Mont Blanc pen set; silver with blue stone, engraved with Jordanian coat of arms. Recd—May 6, 2004. Est. Value—$450. Archives Foreign | His Majesty King Abdullah II bin al Hussein of the Hashemite Kingdom of Jordan | Non-acceptance would cause embarrassment to donor and U.S. Government.
Vice President | Sterling silver sword. Recd—June 8, 2004. Est. Value—$500. Archives Foreign | His Excellency Ali Abdullah Saleh, President of the Republic of Yemen | Non-acceptance would cause embarrassment to donor and U.S. Government.
Vice President | 18K white gold cufflinks with Arabic lettering symbolizing good fortune and health. Recd—June 15, 2004. Est. Value—$400. Archives Foreign | His Majesty King Abdullah II bin al Hussein of the Hashemite Kingdom of Jordan | Non-acceptance would cause embarrassment to donor and U.S. Government.
Vice President | Sterling silver incense burner on silver and sodalite tray. Recd—July 7, 2004. Est. Value—$1500. Archives Foreign | His Excellency Maqbool Bin Ali Sultan, Minister of Commerce and Industry Oman | Non-acceptance would cause embarrassment to donor and U.S. Government.
Vice President | Beige cashmere sweater, made in Mongolia, size XL. Recd—July 20, 2004. Est. Value—$297. Archives Foreign | His Excellency Natsagiin Bagabandi. President of Mongolia | Non-acceptance would cause embarrassment to donor and U.S. Government.
Vice President and Mrs. Cheney | Hand-made, sculpted crystal elephant by Daum. Recd—December 6, 2004. Est. Value—$725. Archives Foreign | His Excellency Salem Abdallah Al-Jabir Al-Sabah and Mrs. Rima Al-Sabah, Embassy of Kuwait | Non-acceptance would cause embarrassment to donor and U.S. Government.
Vice President | Six E. Marinella men's neckties. Recd—May 20, 2004. Est. Value—$810. Archives Foreign | His Excellency Silvio Berlusconi, President of the Council of Ministers of the Italian Republic | Non-acceptance would cause embarrassment to donor and U.S. Government.
Vice President | Sterling silver bowl and lid decorated with repousse and engraving in a floral design. Recd—January 28, 2004. Est. Value—$350. Archives Foreign | His Excellency Recep Tayyip Erdogan, Prime Minister of the Republic of Turkey | Non-acceptance would cause embarrassment to donor and U.S. Government.
Vice President and Mrs. Cheney | Limoges plate with gold trim, maroon and ivory design with Arabic inscription and a wooden plate stand. Recd—August 23, 2004. Est. Value—$200. Archives Foreign | His Majesty King Abdullah II bin al Hussein of the Hashemite Kingdom of Jordan. | Non-acceptance would cause embarrassment to donor and U.S. Government.
| Pottery vanity set: black hand towel holder and soap dish with three embroidered hand towels. Recd—August 23, 2004. Est. Value—$166. Archives Foreign
| Two pottery containers with wicker tops for holding herbs. Measures 5″ x 3″. Recd—August 23, 2004. Est. Value—$50. Archives Foreign
| Six-inch square wooden box with floral stone mosaic cover for herb storage. Recd—August 23, 2004. Est. Value—$29. Archives Foreign
| Pottery incense burner and box. Recd—August 23, 2004. Est. Value—$30. Archives Foreign
| Six blue tea glasses with gold trim. Recd—August 23, 2004. Est. Value—$42. Archives Foreign
| Six-inch square silk pillow with gold tassels. Recd—August 23, 2004. Est. Value—$29. Archives Foreign
| CD of Jordanian music by Sakher Hattan. Recd—August 23, 2004. Est. Value—$15. Archives Foreign
| Four scented pillar candles, 4″ high. Recd—August 23, 2004. Est. Value—$36. Handled pursuant to Secret Service policy
Vice President | Wood and brass presentation box containing bronze reproduction of “Ding” pot, representing power, prosperity and peace. Recd—January 6, 2004. Est. Value—$500. Archives Foreign | His Excellency Wen Jiabao, Premier of the People's Republic of China | Non-acceptance would cause embarrassment to donor and U.S. Government.
Vice President | Framed oil painting of St. George slaying a dragon, Bulgarian style with gold leaf work. Recd—February 26, 2004. Est. Value—$200. Archives Foreign | His Excellency Solomon Passy, Minister of Foreign Affairs of the Republic of Bulgaria | Non-acceptance would cause embarrassment to donor and U.S. Government.
| Gold medallion commemorating the 100th Anniversary of the establishment of diplomatic relations between the U.S. and Bulgaria. Recd—February 26, 2004. Est. Value—$250. Archives Foreign
Vice President and Mrs. Cheney | Wool on cotton carpet measuring 77″; by 61″, rust background, with cruciform stylized foliate medallion, three borders. Recd—December 7, 2004. Est. Value—$1,000. Archives Foreign | His Excellency Hamid Karzai, President of Afghanistan | Non-acceptance would cause embarrassment to donor and U.S. Government.
| Wool on cotton carpet measuring 78″ by 57″, yellow background with red, tan, and green stylized floral decoration, four borders. Recd—December 7, 2004. Est. Value—$1000. Archives Foreign
| Embroidered beige cotton tablecloth with twelve napkins. Recd—December 7, 2004. Est. Value—$150. Archives Foreign
Vice President | Framed silver plaque with repousse decoration of a temple scene with an elephant and oxen pulling a cart. Recd—December 17, 2004. Est. Value—$225. Archives Foreign | His Excellency Phanthong Phommahaxay, Ambassador of the Lao People's Democratic Republic | Non-acceptance would cause embarrassment to donor and U.S. Government.
| Polychrome woven silk sash, measuring 80″ by 15.″ Recd—December 17, 2004. Est. Value—$200. Archives Foreign
Vice President and Mrs. Cheney | Twenty-one medals, gold plated on brass, depicting the Mysteries of the Rosary, with a large central medal of the Madonna. Small medals measure 1.75″ in diameter. Medals are displayed in a sealed plexi-glass case. Recd—January 27, 2004. Est. Value—$627. Archives Foreign | His Holiness John Paul, II, The Holy See | Non-acceptance would cause embarrassment to donor and U.S. Government.
Mrs. Cheney | Silver rosary with mother-of-pearl beads, blessed by Pope John Paul II. Recd—January 27, 2004. Est. Value—$75. Retained (souvenir or mark of courtesy) | His Holiness John Paul, II, The Holy See | Non-acceptance would cause embarrassment to donor and U.S. Government.

AGENCY: Department of State
[Report of Tangible Gifts]
Name and title of person accepting the gift on behalf of the U.S. Government | Gift, date of acceptance on behalf of the U.S. Government, estimated value, and current disposition or location | Identity of foreign donor and government | Circumstances justifying acceptance
Colin L. Powell, The Secretary of State of the United States | Ottoman, two color leather, 20th century. Date Received: 1/13/2004. Estimated Value: $350.00. Disposition: Pending transfer to the General Service Administration | Ben An, President of the Government of Tunisia | Non-acceptance would cause the donor or the U.S. Government embarrassment.
Colin L. Powell, The Secretary of State of the United States | Painting, watercolor and mixed media, 21″ x 26½″, Tbilisi, by Gega Kutateladze, 2003, framed $250, bottle of wine in silver plated overlay bottle $100. Date Received: 1/25/2004. Estimated Value: $350.00. Disposition: Pending transfer to the General Services Administration | Eduard Shevardnadze, President of Georgia | Non-acceptance would cause the donor or the U.S. Government embarrassment.
Colin L. Powell, The Secretary of State of the United States | Carpet, 93½″ x 62½″, black background with ‘King Tut.’ Date Received: 2/3/2004. Estimated Value: $400.00. Disposition: Pending transfer to the General Services Administration | Field Marshall Hussein Tantawi, Commander in Chief of the Egyptian Armed Forces, Egypt | Non-acceptance would cause the donor or the U.S. Government embarrassment.
Colin L. Powell, The Secretary of State of the United States | Carriage clock, silver plate and enamel, by William & Son $2,000, pair cufflinks sterling silver and enamel $250. Date Received: 2/9/2004. Estimated Value: $2,250.00. Disposition: Pending transfer to the General Services Administration | Shaykh Salman bin Hamad bin Isa Al Khalifa, Crown Prince of the Kingdom of Bahrain | Non-acceptance would cause the donor or the U.S. Government embarrassment.
Colin L. Powell, The Secretary of State of the United States | Rosewater bottle and incense burner, silver filigree, late 20th century, 34ozsT. Date Received: 2/17/2004. Estimated Value: $1,000.00. Disposition: Pending transfer to the General Services Administration | His Excellency Zine El-Abidine Ben Ali President of the Republic of Tunisia | Non-acceptance would cause the donor or the U.S. Government embarrassment.
Colin L. Powell, The Secretary of State of the United States | Bowl, 8¼″L x 4⅜″H, cut crystal, “Tornado” by Orrefors, 20th century. Date Received: 2/17/2004. Estimated Value: $300.00. Disposition: Pending transfer to the General Services Administration | Laila Freivalds, Foreign Minister, Sweden | Non-acceptance would cause the donor or the U.S. Government embarrassment.
Colin L. Powell, The Secretary of State of the United States | Vase, 18⅛″H, marquetry of various semiprecious stones including lapis lazuli, jasper, sard and agate. Date Received: 3/11/2004. Estimated Value: $1,250.00. Disposition: Pending transfer to the General Services Administration | Hamid Karzai, President of the Transitional Islamic State of Afghanistan | Non-acceptance would cause the donor or the U.S. Government embarrassment.
Colin L. Powell, The Secretary of State of the United States | Rugs, 36″ x 23½″, wool on cotton, hand woven $300, 2 shawls with silk embroidery $130. Date Received: 3/17/2004. Estimated Value: $430.00. Disposition: Pending transfer to the General Services Administration | Mohammedmian Soomro, Chairman of the Senate, Pakistan | Non-acceptance would cause the donor or the U.S. Government embarrassment.
Colin L. Powell, The Secretary of State of the United States | Roll top butter dish, 7″ diameter, repoussed and chased silver, set with 4 lapis lazuli cabochons and 8 turquoise cabochons 7mm x 6mm, 20th century. Date Received: 3/18/2004. Estimated Value: $450.00. Disposition: Pending transfer to the General Services Administration | Pervez Musharraf, President of the Islamic Republic of Pakistan | Non-acceptance would cause the donor or the U.S. Government embarrassment.
Colin L. Powell, The Secretary of State of the United States | Pair cufflinks 18 karat yellow gold each set with 5 round diamonds TW 16 points both Chopard ($1800), Wristwatch mans 18 karat yellow gold case with date Chopard 1026 924-2248 black alligator strap ($8,100). Date Received: 3/20/2004. Estimated Value: $9,900.00. Disposition: Pending transfer to the General Services Administration | Sheikh Jabir al-Ahmad Al Sabah, Emir of the State of Kuwait | Non-acceptance would cause the donor or the U.S. Government embarrassment.
Colin L. Powell, The Secretary of State of the United States | Brown leather attaché case ($450), belt frontispiece 18 karat yellow gold chain mail 9ozsT ($4,000), ring 18 karat yellow gold set with 5 round diamonds TW 8 points Chopard ($2,000). Date Received: 3/20/2004. Estimated Value: $6,450.00. Disposition: Pending transfer to the General Services Administration | Sheikh Jabir al-Ahmad Al Sabah, Emir of the State of Kuwait | Non-acceptance would cause the donor or the U.S. Government embarrassment.
Colin L. Powell, The Secretary of State of the United States | Desk set, leather, by Dacoma. Date Received: 4/15/2004. Estimated Value: $650.00. Disposition: Pending transfer to the General Services Administration | Mircea Dan Geoana, Foreign Minister of Romania as part of the Social Democratic Party | Non-acceptance would cause the donor or the U.S. Government embarrassment.
Colin L. Powell, The Secretary of State of the United States | Desk set, sterling silver and slag glass, four open boxes. Date Received: 4/20/2004. Estimated Value: $550.00. Disposition: Pending transfer to the General Services Administration | Franco Frattini, Minister of Foreign Affairs of the Italian Republic, Italy | Non-acceptance would cause the donor or the U.S. Government embarrassment.
Colin L. Powell, The Secretary of State of the United States | Pen, platinum plated metal, with watch in handle, Cartier “Stylo d'Exception”, #180/2000, boxed. Date Received: 4/27/2004. Estimated Value: $750.00. Disposition: Pending transfer to the General Services Administration | Shaikh Hamad bin Jasim bin Jabir Al Thani, Minister of Foreign Affairs of the State of Qatar | Non-acceptance would cause the donor or the U.S. Government embarrassment.
Colin L. Powell, The Secretary of State of the United States | Desk set, sterling silver and mother of pearl, letter opener and magnifying glass, 20th century. Date Received: 5/6/2004. Estimated Value: $350.00. Disposition: Pending transfer to the General Services Administration | King Abdullah II Bin al Hussein, King of the Hashemite Kingdom of the Jordan | Non-acceptance would cause the donor or the U.S. Government embarrassment.
Colin L. Powell, The Secretary of State of the United States | Charger, 12″ diameter, sterling silver repousse, 20th century, 17ozsT. Date Received: 5/12/2004. Estimated Value: $350.00. Disposition: Pending transfer to the General Services Administration | Lakshman Kadirgamar, Minister, Government of Sri Lanka | Non-acceptance would cause the donor or the U.S. Government embarrassment.
Colin L. Powell, The Secretary of State of the United States | Sculpture, 11″H, sterling silver, traditional luzzu sailboat, late 20th century. Date Received: 5/20/2004. Estimated Value: $2,000.00. Disposition: Pending transfer to the General Services Administration | John Dalli, Minister of Finance and Economic Affairs, Malta | Non-acceptance would cause the donor or the U.S. Government embarrassment.
Colin L. Powell, The Secretary of State of the United States | Sculpture, 11″H, sterling silver, sailboat, late 20th century. Date Received: 5/22/2004. Estimated Value: $2,000.00. Disposition: Pending transfer to the General Services Administration | Patricio Zuquilanda Duque, Minister of Foreign Relations, Ecuador | Non-acceptance would cause the donor or the U.S. Government embarrassment.
Colin L. Powell, The Secretary of State of the United States | Briefcase, tan leather $150, Book, Artistas Plasticos del Ecuador $45, Sculpture of a bird, sterling silver 12 oz $240. Date Received: 6/7/2004. Estimated Value: $435.00. Disposition: Pending transfer to the General Services Administration | Patricio Zuquilanda Duque, Minister of Foreign Relations, Ecuador | Non-acceptance would cause the donor or the U.S. Government embarrassment.
Colin L. Powell, The Secretary of State of the United States | Cufflinks, 18 karat yellow gold, with Liberian insignia Date Received: 6/11/2004. Estimated Value: $750.00. Disposition: Pending transfer to the General Services Administration | Gyude Bryant, Chairman of the National Transitional Government, Liberia | Non-acceptance would cause the donor or the U.S. Government embarrassment.
Colin L. Powell, The Secretary of State of the United States | Carpet, 6′6″ x 9′9″, wool on wool, Bokhara design. Date Received: 6/15/2004. Estimated Value: $2,500.00. Disposition: Pending transfer to the General Services Administration | Hamid Karzai, President of the Transitional Islamic State of Afghanistan | Non-acceptance would cause the donor or the U.S. Government embarrassment.
Colin L. Powell, The Secretary of State of the United States | Bowl, burlwood with silver mounts set with turquoise cabochons 6 mm. $250, together with a “V” neck maroon cashmere sweater XL $350. Date Received: 7/4/2004. Estimated Value: $600.00. Disposition: Pending transfer to the General Services Administration | His Excellency Natsagiyn Bagabandi, President of Mongolia | Non-acceptance would cause the donor or the U.S. Government embarrassment.
Colin L. Powell, The Secretary of State of the United States | Jewelry, woman's, 18 karat white gold set with diamonds, Bulgari Necklace set with 64 round diamonds TW 6.4 carats, ring set with 6 round diamonds TW 60 points, pair diamonds TW 1.2 both. Date Received: 7/28/2004. Estimated Value: $24,500.00. Disposition: Pending transfer to the General Services Administration | Aziz-Jeddah, Kingdom of Saudi Arabia | Non-acceptance would cause the donor or the U.S. Government embarrassment.
Colin L. Powell, The Secretary of State of the United States | Coffee pot, 9 5/8″H, sterling silver with gold wash, 16ozsT. Date Received: 7/28/2004. Estimated Value: $400.00. Disposition: Pending transfer to the General Services Administration | Prince Faisal, Government of Saudi Arabia | Non-acceptance would cause the donor or the U.S. Government embarrassment.
Colin L. Powell, The Secretary of State of the United States | Sculpture, 7″H x 9¾″L, 18 karat yellow gold oasis scene with two camels, two figures, tent and palm trees, stone base, fitted case. Date Received: 7/28/2004. Estimated Value: $8,500.00. Disposition: Pending transfer to the General Services Administration | Aziz-Jeddah, Kingdom of Saudi Arabia | Non-acceptance would cause the donor or the U.S. Government embarrassment.
Colin L. Powell, The Secretary of State of the United States | Books, 2 volumes, “Journal d'un Voyage fait dans I'lnterieur de I'Amerique Septentrionale”, Villette, 1793. Date Received: 10/1/2004. Estimated Value: $900.00. Disposition: Pending transfer to the General Services Administration | Nicolas Sarkozy, Minister, Government of France | Non-acceptance would cause the donor or the U.S. Government embarrassment.
Colin L. Powell, The Secretary of State of the United States | Book, China History Culture Treasure $225, ten compact disks of Chinese folk music, $150. Date Received: 10/1/2004. Estimated Value: $375.00. Disposition: Pending transfer to the General Services Administration | Li Zhaoxing, Minister of Foreign Affairs of the People's Republic of China | Non-acceptance would cause the donor or the U.S. Government embarrassment.
Colin L. Powell, The Secretary of State of the United States | Oil painting on canvas of purple flower with green background entitled “Flamboyant Nation” by artist Roger Brathwaite. Date Received: 10/5/2004. Estimated Value: $600.00. Disposition: Pending transfer to the General Services Administration | Dr. Keith C. Mitchell, Prime Minister of Grenada | Non-acceptance would cause the donor or the U.S. Government embarrassment.
Colin L. Powell, The Secretary of State of the United States | Bottle of wine, Madeira from the Masandra cellar, 1937. Date Received: 11/15/2004. Estimated Value: $250.00. Disposition: Pending transfer to the General Services Administration | Honorable Volodymyr Lytvyn, Speaker of the Verhovna Rada, Ukraine | Non-acceptance would cause the donor or the U.S. Government embarrassment.
Colin L. Powell, The Secretary of State of the United States | Replica Sword, 42½″L overall, brass sheathed scabbard and hilt, engraved blade. Date Received: 11/15/2004. Estimated Value: $200.00. Disposition: Pending transfer to the General Services Administration | Honorable Volodymyr Lytvyn, Speaker of the Verhovna Rada, Ukraine | Non-acceptance would cause the donor or the U.S. Government embarrassment.
Colin L. Powell, The Secretary of State of the United States | Double tear jar, 2½″H with later silver mounts, Roman Period 63 BCE-330 CE, fitted case. Date Received: 11/22/2004. Estimated Value: $300.00. Disposition: Pending transfer to the General Services Administration | Ariel Sharon, Prime Minister of Israel | Non-acceptance would cause the donor or the U.S. Government embarrassment.
Colin L. Powell, The Secretary of State of the United States | Figure, 7¼″H, Waterford crystal eagle with spread wings, Ireland, 20th/21st century. Date Received: 12/7/2004. Estimated Value: $400.00. Disposition: Pending transfer to the General Services Administration | Salem Al-Sabah, Ambassador of the state of Kuwait and Mrs. Salem | Non-acceptance would cause the donor or the U.S. Government embarrassment.
Colin L. Powell, The Secretary of State of the United States | Cufflinks, 9 karat yellow gold, each a blue enamel oval with Belgian coat of Arms. Date Received: 12/8/2004. Estimated Value: $375.00. Disposition: Pending transfer to the General Services Administration | Karel De Gucht, Foreign Minister, Belgium | Non-acceptance would cause the donor or the U.S. Government embarrassment.
Colin L. Powell, The Secretary of State of the United States | Ottoman, two color leather, 20th century. Date Received: 12/16/2004. Estimated Value: $350.00. Disposition: Pending transfer to the General Services Administration | Ben AN, President of the Government of Tunisia | Non-acceptance would cause the donor or the U.S. Government embarrassment.
Colin L. Powell, The Secretary of State of the United States | Four bottles of Olive oil, chocolate assortment, olive oil and thyme, wood box containing two candles, two small notebooks, pendant, two jars of candies, 3 silver plates, miniature vessels, Rosenthal Porcelain plate 8½″ square 2004-5. Date Received: 12/16/2004. Estimated Value: $1,850.00. Disposition: Pending transfer to the General Services Administration | King Abdullah II bin al Hussein and Queen Rania, King and Queen, Jordan | Non-acceptance would cause the donor or the U.S. Government embarrassment.
Mary Masserini, Protocol Officer—U.S. Department of State | Watch—Ladies Maurice La Croix: Stainless steel model MM013-SS002-310 Date Received: 2/25/2004. Over Minimum Value. Disposition: Pending transfer to the General Services Administration | Shaikh Salman Bin Hamad Al-Khalifa, Crown Prince and Commander-in-Chief of the Bahrain Defense Force, Bahrain | Non-acceptance would cause the donor or the U.S. Government embarrassment.
William J. Burns, Assistant Secretary of State | Cufflinks—sterling silver and Medallion—gold plated 4″ diameter. Date Received: 2/12/2004. Over Minimum Value. Disposition: Pending transfer to the General Services Administration | Shaikh Salman Bin Hamad Al-Khalifa, Crown Prince and Commander-in-Chief of the Bahrain Defense Force, Bahrain | Non-acceptance would cause the donor or the U.S. Government embarrassment.
Francis X. Taylor, Assistant Secretary of State for Diplomatic Security | Gold Inlaid Statue. Date Received: 6/29/2004. Over Minimum Value. Disposition: Pending transfer to the General Services Administration | Mohamed Al-Nassr, Security Attaché, Embassy of Qatar | Non-acceptance would cause the donor or the U.S. Government embarrassment.
Kenneth D. Ward, Deputy to the Senior Weapons of Mass Destruction Representative, Libya | Swiss Omade Rado wristwatch Date Received: 9/19/2004. Over Minimum Value. Disposition: Pending transfer to the General Services Administration | Abdullah Senoussi, Government Official, Ministry of Foreign Affairs, Libya | Non-acceptance would cause the donor or the U.S. Government embarrassment.
Marcelle M. Wahba, U.S. Ambassador to the United Arab Emirates | 18 kt gold necklace, bracelet, ring, and earrings (Damas). Date Received: 6/1/2004. Over Minimum Value. Disposition: Pending transfer to the General Services Administration | Sheikh Saqr bin Muhammad al Qasimi, Ruler of Ras al-Khaimah, United Arab Emirates | Non-acceptance would cause the donor or the U.S. Government embarrassment.
Marcelle M. Wahba, U.S. Ambassador to the United Arab Emirates | 22 kt. rose gold ring with diamonds (Giovanni Ferraris). Date Received: 6/7/2004. Over Minimum Value. Disposition: Pending transfer to the General Services Administration | Shaykha Saif, Wife of Shaykha Sultan bin Khalifa, Member of the Executive Council and Chairman of the Abu Dhabi Crown Prince's Office, United Arab Emirates | Non-acceptance would cause the donor or the U.S. Government embarrassment.
Richard L. Baltimore, III, Ambassador | Carpet—3 x 5. Date Received: 5/8/2004. Estimated Value: $1,235.00. Disposition: Pending transfer to the General Services Administration | Yahya, Yahya, Business/PR Director, Saudi bin Laden Construction, Saudi Arabia | Non-acceptance would cause the donor or the U.S. Government embarrassment.
Tracey Ann Jacobson, U.S. Ambassador to Turkmenistan | Gold necklace and earrings. Date Received: 8/27/2004. Over Minimum Value. Disposition: Pending transfer to the General Services Administration | Huda Al Midfa, Wife of United Arab Emirates Ambassador Hassan Abdullah Al Adhab, United Arab Emirates | Non-acceptance would cause the donor or the U.S. Government embarrassment.
Tracey Ann Jacobson, U.S. Ambassador to Turkmenistan | Gold watch Date Received: 10/20/2004. Over Minimum Value. Disposition: Pending transfer to the General Services Administration | Saparmurat Niyazov, President of Turkmenistan | Non-acceptance would cause the donor or the U.S. Government embarrassment.

AGENCY: Department of Defense
[Report of Tangible Gifts]
Name and title of person accepting the gift on behalf of the U.S. Government | Gift, date of acceptance on behalf of the U.S. Government, estimated value, and current disposition or location | Identity of foreign donor and government | Circumstances justifying acceptance
The Honorable Donald H. Rumsfeld, Secretary of Defense | Gold Bracelet and Silver Lamp. Date Received: 1/20/2004. Est. Value: $180.00 and $250.00, respectively. Total Value: $430.00. Disposition: Transferred to General Services Administration | Field Marshal Mohamed Hussein Tantawi, Commander in Chief of the Armed Forces, Minister of Defense and Military Production of the Arab Republic of Egypt | Non-acceptance would have caused embarrassment to donor and U.S. Government.
The Honorable Donald H. Rumsfeld, Secretary of Defense | Clock and Cuff Links. Date Received: 2/18/2004. Est. Value: $270.00 and $100.00, respectively. Total Value: $370.00. Disposition: Transferred to General Services Administration | His Highness Prince Salman bin Hamad Al-Khalifa, The Crown Prince and Commander, Bahrain Defense Force, Kingdom of Bahrain | Non-acceptance would have caused embarrassment to donor and U.S. Government.
The Honorable Donald H. Rumsfeld, Secretary of Defense | Marble Flower Vase. Date Received: 2/23/2004. Est. Value: $400.00. Disposition: Transferred to General Services Administration | His Excellency Hamid Karzai, President of the Islamic State of Afghanistan | Non-acceptance would have caused embarrassment to donor and U.S. Government.
The Honorable Donald H. Rumsfeld, Secretary of Defense | Sword and Shawl. Date Received: 2/24/2004. Est. Value: $250.00 and $65.00, respectively. Total Value: $315.00. Disposition: Transferred to General Services Administration | His Excellency Kadir Gulamov, Minister of Defense of the Republic of Uzbekistan | Non-acceptance would have caused embarrassment to donor and U.S. Government.
The Honorable Donald H. Rumsfeld, Secretary of Defense | Medallion, Book of Mosaics and a Mosaic. Date Received: 3/15/2004. Est. Value: $50.00, $59.00 and $1,000.00, respectively. Total Value: $1,109.00. Disposition: Transferred to General Services Administration | His Excellency Dali Jazi, Minister of Defense of the Republic of Tunisia | Non-acceptance would have caused embarrassment to donor and U.S. Government.
The Honorable Donald H. Rumsfeld, Secretary of Defense | Plaque, Caviar, Carpet and Tea Set. Date Received: 3/26/2004. Est. Value: $20.00, $300.00, $1,200.00 and $225.00. Total Value: $1,745.00. Disposition: Transferred to General Services Administration | His Excellency Safar Abiyev, Minister of Defense of the Republic of Azerbaijan | Non-acceptance would have caused embarrassment to donor and U.S. Government.
The Honorable Donald H. Rumsfeld, Secretary of Defense | Saber and Model Ship. Date Received: 3/31/2004. Est. Value: $640.00 and $1,000.00, respectively. Total Value: $1,640.00. Disposition: Transferred to General Services Administration | His Excellency Sheikh Jabir Mubarak al-Hamad Al-Sabah, Deputy Prime Minister and Minister of Defense of the State of Kuwait | Non-acceptance would have caused embarrassment to donor and U.S. Government.
The Honorable Donald H. Rumsfeld, Secretary of Defense | Ceramic Desk Set Date Received: 5/27/2004. Est. Value: $390.00. Disposition: Transferred to General Services Administration | His Excellency Jose Bono Martinez, Minister of Defense, Spain | Non-acceptance would have caused embarrassment to donor and U.S. Government.
The Honorable Donald H. Rumsfeld, Secretary of Defense | Silver Cuff Links and Gold Stickpin. Date Received: 6/20/2004. Est. Value: $260.00 and $40.00, respectively. Total Value: $300.00. Disposition: Transferred to General Services Administration. | His Majesty King Abdullah bin al-Hussein, King of The Hashemite Kingdom of Jordan | Non-acceptance would have caused embarrassment to donor and U.S. Government.
The Honorable Donald H. Rumsfeld, Secretary of Defense | Glass Sword and Wood Carving of Grapes Plaque. Date Received: 6/26/2004. Est. Value: $25.00, $250.00 and $65.00, respectively. Total Value: $340.00. Disposition: Transferred to General Services Administration | His Excellency Victor Gaiciuc, Minister of Defense of the Republic of Moldova | Non-acceptance would have caused embarrassment to donor and U.S. Government.
The Honorable Donald H. Rumsfeld, Secretary of Defense | 3′ Sword with Wall Mount and Book of Fairy Tales. Date Received: 8/9/2004. Est. Value: $1,250.00 and $50.00, respectively. Total Value: $1,300.00. Disposition: Transferred to General Services Administration | His Excellency Soren Gade, Minister of Defense, Denmark | Non-acceptance would have caused embarrassment to donor and U.S. Government.
The Honorable Donald H. Rumsfeld, Secretary of Defense | Desk Clock Mounted on a Crystalline. Date Received: 8/9/2004. Est. Value: $360.00. Disposition: Transferred to General Services Administration | His Excellency Marek Belka, Prime Minister, Poland | Non-acceptance would have caused embarrassment to donor and U.S. Government.
The Honorable Donald H. Rumsfeld, Secretary of Defense | Handcrafted Lapis Metal Box. Date Received: 8/11/2004. Est. Value: $325.00. Disposition: Transferred to General Services Administration | His Excellency Hamid Karzai, President of the Islamic State of Afghanistan | Non-acceptance would have caused embarrassment to donor and U.S. Government.
The Honorable Donald H. Rumsfeld, Secretary of Defense | Bottle of Wine, Lavadia Rose Muscat and a Bottle of Wine, Massandra. Date Received: 8/13/2004. Est. Value: $600.00 and $600.00, respectively. Total Value: $1,200.00. Disposition: Transferred to General Services Administration | His Excellency Leonid Kuchma, President, Ukraine | Non-acceptance would have caused embarrassment to donor and U.S. Government.
The Honorable Donald H. Rumsfeld, Secretary of Defense | Bottle of Wine, 1954 and Framed Coin Set. Date Received: 8/14/2004. Est. Value: $190.00 and $260.00, respectively. Total Value: $450.00. Disposition: Transferred to General Services Administration | His Excellency Yevhan Marchuk, Minister of Defense, Ukraine | Non-acceptance would have caused embarrassment to donor and U.S. Government.
The Honorable Donald H. Rumsfeld, Secretary of Defense | Large Silver Palm Tree in Glass Case. Date Received: 10/10/2004. Est. Value: $350.00. Disposition: Transferred to General Services Administration | His Excellency Iyad Allawi, Prime Minister of the Interim Government of Iraq | Non-acceptance would have caused embarrassment to donor and U.S. Government.
The Honorable Donald H. Rumsfeld, Secretary of Defense | Icon of Jesus. Date Received: 10/11/2004. Est. Value: $600.00. Disposition: Transferred to General Services Administration | His Excellency Branko Crvenkovski, President of the Former Yugoslavia Republic of Macedonia | Non-acceptance would have caused embarrassment to donor and U.S. Government.
The Honorable Donald H. Rumsfeld, Secretary of Defense | Framed Picture, Titled “Weeds and Insects,” 60″ x 14″. Date Received: 10/22/2004. Est. Value: $380.00. Disposition: Transferred to General Services Administration | His Excellency Yoon Kwang-woong, Minister of National Defense, Republic of Korea | Non-acceptance would have caused embarrassment to donor and U.S. Government.
The Honorable Donald H. Rumsfeld, Secretary of Defense | Rug, 9′ x 10′. Date Received: 12/9/2004. Est. Value: $320.00. Disposition: Transferred to General Services Administration | His Excellency Hamid Karzai, President of the Islamic State of Afghanistan | Non-acceptance would have caused embarrassment to donor and U.S. Government.
The Honorable Donald H. Rumsfeld, Secretary of Defense | 5 Jars of Caspian Caviar and Glass Decanter of Brandy. Date Received: 12/11/2004. Est. Value: $625.00 and $85.00 respectively. Total Value: $710.00. Disposition: Transferred to General Services Administration | His Excellency Safar Abiyev, Minister of Defense of the Republic of Azerbaijan | Non-acceptance would have caused embarrassment to donor and U.S. Government.
The Honorable Donald H. Rumsfeld, Secretary of Defense | Aromatherapy Gift Set and Assorted Olive Oils. Date Received: 12/22/2004. Est. Value: $380.00 and $110.00, respectively. Total Value: $490.00. Disposition: Transferred to General Services Administration | His Majesty King Abdullah bin al-Hussein and Her Majesty Queen Rania of The Hashemite Kingdom of Jordan | Non-acceptance would have caused embarrassment to donor and U.S. Government.
The Honorable Paul Wolfowitz, Deputy Secretary of Defense | 5′ x 8′ Egyptian King Tut Rug. Date Date Received: 1/27/2004. Est. Value: $400.00. Disposition: Transferred to General Services Administration | Reid Marshal Mohamed Hussein Tantawi, Commander in Chief of the Armed Forces, Minister of Defense and Military Production of the Arab Republic of Egypt | Non-acceptance would have caused embarrassment to donor and U.S. Government.
The Honorable Paul Wolfowilz, Deputy Secretary of Defense | Chess Set and 4′ x 6′ Kurdish Rug. Date Received: 6/17/2004. $140.00 and $450.00, respectively. Total Value: $590.00. Disposition: Transferred to General Services Administration | Jalal Talabani, Secretary General of the Patriotic Union of Kurdistan | Non-acceptance would have caused embarrassment to donor and U.S. Government.
General Richard B. Myers, Chairman, Joint Chiefs of Staff | Painting. Date Received: 4/12/2004. Est. Value: $550.00. Disposition: Transferred to General Services Administration | His Excellency Sheikh Jabir Mubarak al-Hamad Al-Sabah, Deputy Prime Minister and Minister of Defense of the State of Kuwait | Non-acceptance would have caused embarrassment to donor and U.S. Government.
General Richard B. Myers, Chairman, Joint Chiefs of Staff | Silver Punch Bowl Set and Painting. Date Received: 4/12/2004. $340.00 and $550.00, respectively. Total Value: $890.00. Disposition: Transferred to General Services Administration | His Excellency Sheikh Jabir Mubarak al-Hamad Al-Sabah, Deputy Prime Minister of Defense of the State of Kuwait | Non-acceptance would have caused embarrassment to donor and U.S. Government.
General Richard B. Myers, Chairman, Joint Chiefs of Staff | Paekche Great Gilt-Bronze Incense Burner. Date Received: 10/21/2004. Est. Value: $290.00. Disposition: Transferred to General Services Administration. | General Kim Jong il, General Secretary Korean Workers Party Hwan-CJCS ROK | Non-acceptance would have caused embarrassment to donor and U.S. Government.
General Richard B. Myers, Chairman, Joint Chiefs of Staff | Jewelry Set (Necklace, Bracelet Ring and Earring). Date Received: 12/1/2004. Est. Value: $540.00. Disposition: Transferred to General Services Administration | Lieutenant General Hamdy Moustafa Weheba, Chief of Staff of The Egyptian Armed Forces | Non-acceptance would have caused embarrassment to donor and U.S. Government.
General Richard B. Myers, Chairman, Joint Chiefs of Staff | Gift Set in Wood Box. Date Received: 12/23/2004. Est. Value: $380.00. Disposition: Transferred to General Services Administration | His Majesty King Abdullah bin al-Hussein, King of The Hashemite Kingdom of Jordan | Non-acceptance would have caused embarrassment to donor and U.S. Government.
The Honorable Douglas J. Feith, Under Secretary of Policy | 5′ x 8′ Egyptian King Tut Rug. Date Received: 1/15/2004. Est. Value: $400.00. Disposition: Transferred to General Services Administration. | Field Marshal Mohamed Hussein Tantawi, Commander in Chief of the Armed Forces, Minister of Defense and Military Production of the Arab Republic of Egypt | Non-acceptance would have caused embarrassment to donor and U.S. Government.
Lieutenant General Tome H. Walters, Jr., Director, Defense Security Cooperation Agency | Oil Painting on Canvas by the Artist Ghiorczyk. Date Received: 4/4/2004. Est. Value: $350.00. Disposition: Transferred to General Services Administration | Jerzy Szmajdzinski, Minister of Defense, Republic of Poland | Non-acceptance would have caused embarrassment to donor and U.S. Government.
Mira Ricardel, Acting Assistant Secretary of Defense, International Security Policy | Pearl Necklace. Date Received: 10/15/2003. Est. Value: $450.00. Disposition: Transferred to General Services Administration | Vlado Buckovski, Minister of Defense of the Former Yugoslavia Republic of Macedonia | Non-acceptance would have caused embarrassment to donor and U.S. Government.
Major General Thomas J. Romig, Judge Advocate General | Picture of Forest Made with Various Color Granulates and Chips of Stone Encased in Solid Marble Frame and Wood Shaped Swan Punch Bowl with Eight Ladle Cups, Black with Gold Beak. Date Received: 9/14/2004. Est. Value: $125.00 and $210.00, respectively. Total Value: $335.00. Disposition: Transferred to General Services Administration | General-Colonel Valeriy Inanovich Marchenkov, President of the Military University | Non-acceptance would have caused embarrassment to donor and U.S. Government.
Major General Thomas J. Romig, Judge Advocate General | Etching of Mockba, Moscow by A.H. Cabettcoba, Porcelain Hand Painted Picture With Inscription “APXAHTEn6CKO on back C$M Mockba with Newspaper Article, Green Marble Egg with Black Etching of a Christian symbolism of a Woman and Child with Green Marble Base, Pewter Statute of a Russian Solkier with Marble Base (Green), Green Metal Cantee of BOflKA NEXOTHAH Liqueur, 1995 Inkerman White Wine with the Words “XCEMHYXOIHA”, 2000 Inkerman Cabernet Wine with the Words “KABEPHE”, Porcelain Vase (POCCKfl) Pattern, Sterling Silver Brocade Pattern Saucer, Paperback Two Volume Book Set On Russian Art “Yue Haa Npuxomb”, Hardcover book “Strolls Around the Moscow Kremlin from Moscow Kremlin Museum, Hardcover Book by Boris Brodsky The Art Treasures from Moscow Museums', and Liqueur “KB KOHbflK PECny6JlNKA AareCTaH JleauHxa” Decorated Glass Carafe. Date Received: 9/14/2004. Est. Value: $85.00, $45.00, $125.00, $350.00, $25.00, $15.00, $15.00, $0.00, $10.00, $35.00, $25.00, $20.00 and $35.00, respectively. Total Value: $885.00. Disposition: Transferred to General Services Administration | General-Colonel Alexander Savenkov, Deputy Attorney General of the Russian Federation and Senior Military Inspector General | Non-acceptance would have caused embarrassment to donor and U.S. Government.

AGENCY: United States Department of Agriculture
[Report of Tangible Gifts]
Name and title of person accepting the gift on behalf of the U.S. Government | Gift, date of acceptance on behalf of the U.S. Government, estimated value, and current disposition or location | Identity of foreign donor and government | Circumstances justifying acceptance
Ann M. Veneman, U.S. Secretary of Agriculture | A stone, probably serpentine, figure of a polar bear in a seated position. Inuit sculpture, it was carved in the cooperative of Puvirnituk located in northeastern Canada. As a registered Inuit sculpture the message “2003, Qumaluk 37464” is incised on the underside of the base. It is also marked “Canada, Ministry of Agriculture A475-AB CI-37465”. The maker is Tukgi Gumaluk. Received: February 11, 2004. Appraised Value: $650.00. Location: The item was returned to the USDA/FAS Foreign Visitor and Protocol Office to be processed for turn-in to General Services Administration | Presented by Robert Speller, Minister of Agriculture, Canada | Non-acceptance would have caused embarrassment to donor and U.S. Government.
Ann M. Veneman, U.S. Secretary of Agriculture | Inuit carving: Artist: Simionte Kanayuk, signed and dated 2002. Dark soapstone carving in the Cape Dorset style, of a polar bear with a seal in its mouth. 10″ long. Additional information on the base: “A804” and “Ct37311” and from the “Puvirnituk Community. Received: August 28, 2004. Appraised value: $850.00. Location: The item was returned to the USDA/FAS Foreign Visitor and Protocol Office to be processed for turn-in to General Services Administration | Presented by the new Canadian Minister of Agriculture, Andrew Mitchell | Non-acceptance would have caused embarrassment to donor and U.S. Government.
James Butler, U.S. Department of Agriculture, Deputy Under Secretary for Farm and Foreign Agricultural Services | Stone carving Artist: Irvin Head “Musk”, Manitoba artist. Soapstone carving of a raven. Signed. Height 5-½″; Length 8”. Information also included on the base “Manitoba Arts” and “Woodlands Gallery”. Date Received: June 15, 2004. Appraised value: $650.00. Location: The item was returned to the USDA/FAS Foreign Visitor and Protocol Office to be processed for turn-in to General Services Administration | Presented by Robert Speller, Minister of Agriculture, Canada, at the World Meat Congress meeting in Winnipeg, Canada | Non-acceptance would have caused embarrassment to donor and U.S. Government.

AGENCY: Department of Commerce
[Report of Tangible Gifts]
Name and title of person accepting the gift on behalf of the U.S. Government | Gift, date of acceptance on behalf of the U.S. Government, estimated value, and current disposition or location | Identity of foreign donor and government | Circumstances justifying acceptance
Donald L. Evans, Secretary of Commerce | White enameled Faberge style egg. Received Date: 4/21/2004. Estimated Value: $350.00. Disposition: Transferred to General Services Administration | Elena Danilova, Deputy Minister of Economic Development and Trade for Russia | Non-acceptance would have caused embarrassment to donor and U.S. Government.
Samuel W. Bodman, Deputy Secretary of Commerce | Lined Dark Green Velvet Men's robe with stitched gilt on front border and cuffs and emblem of Kazakhstan and sun with outline of bird and with tie belt. Received Date: 1/26/2004. Estimated Value: $300.00. Disposition: Transferred to General Services Administration | Ambassador Kanat Saudabayev of Kazakhstan and Ms. Saudabayev | Non-acceptance would have caused embarrassment to donor and U.S. Government

AGENCY: Health and Human Services
[Report of Tangible Gifts]
Name and title of person accepting the gift on behalf of the U.S. Government | Gift, date of acceptance on behalf of the U.S. Government, estimated value, and current disposition or location | Identity of foreign donor and government | Circumstances justifying acceptance
Tommy G. Thompson, Secretary of Health and Human Services | Silver Saudi Coffee Pot (Dallah). Received Date: 4/10/2004. Estimated Value: $400.00. Disposition: Transferred to General Services Administration | Dr. Hamad bin Abdallah al-Manai, Minister of Health of Saudi Arabia | Non-acceptance would have caused embarrassment to donor and U.S. Government.
Tommy G. Thompson, Secretary of Health and Human Services | Black Cloak with Gold Embroidery. Received Date: 4/6/2004. Estimated Value: $1,350.00. Disposition: Transferred to General Services Administration | Prince Abd al-Aziz bin Fahd bin Abd al-Aziz Al Saud, Minister of State of Saudi Arabia | Non-acceptance would have caused embarrassment to donor and U.S. Government.
Tommy G. Thompson, Secretary of Health and Human Services | Edo cut glass vase in wooden presentation box. Received Date: 3/22/2004. Estimated Value: $410.00. Disposition: Transferred to General Services Administration | Toshihiro Nikai, Minister of Economy, Trade and Industry of Japan | Non-acceptance would have caused embarrassment to donor and U.S. Government.
Tommy G. Thompson, Secretary of Health and Human Services | Swarovski Crystal Candleholder. Received Date: 1/15/2004. Estimated Value: $390.00. Disposition: Transferred to General Services Administration | World Economic Forum in Davos, Switzerland | Non-acceptance would have caused embarrassment to donor and U.S. Government.
Tommy G. Thompson, Secretary of Health and Human Services | African Robe and Matching Hat. Received Date: 1/13/2004. Estimated Value: $350.00. Disposition: Transferred to General Services Administration | Albert Mabri Toikeuse, Ivorian Minister of Health | Non-acceptance would have caused embarrassment to donor and U.S. Government.

AGENCY: Department of Energy
[Report of Tangible Gifts]
Name and title of person accepting the gift on behalf of the U.S. Government | Gift, date of acceptance on behalf of the U.S. Government, estimated value, and current disposition or location | Identity of foreign donor and government | Circumstances justifying acceptance
David Garman, Under Secretary of the Department of Energy | Hardcover Book with 10 authentic coins by the Ministry of Science and Technology of the People's Republic of China. Book register #2,163 out of 5,000 authorized copies produced by Jin Quan Coin Culture Co, Ltd. Received Date: 5/14/2004. Estimated Value: $580.00. Disposition: Department of Energy for Official Use | Xu Guanhua, Minister of Science and Technology, China | Non-acceptance would have caused embarrassment to donor and U.S. Government.
Kyle McSlarrow, Deputy Secretary of the Department of Energy | Set of 6 cylinder shape goblets—Amber body and dome foot mounted in Sterling Silver Holder with silver twist stem. Received Date: 6/8/2004. Estimated Value: $750.00. Disposition: Transferred to General Services Administration | Sergei Bogdanchikov, Rosneft President, Russia | Non-acceptance would have caused embarrassment to donor and U.S. Government.

AGENCY: Department of Homeland Security
[Report of Tangible Gifts]
Name and title of person accepting the gift on behalf of the U.S. Government | Gift, date of acceptance on behalf of the U.S. Government, estimated value, and current disposition or location | Identity of foreign donor and government | Circumstances justifying acceptance
Tom Ridge, Secretary of Homeland Security | Cuckoo Clock, Model MT 405-10. Received Date: 10/20/2004. Estimated Value: $528.00. Disposition: Gift returned to donor on January 18, 2005 | Minister Otto Schily, German Ministry of the Interior | Non-acceptance would have caused embarrassment to donor and U.S. Government.
Tom Ridge, Secretary of Homeland Security | Swarovski Binoculars. Received Date: 9/1/2004. Estimated Value: $524.00. Disposition: Gift returned to donor on December 27, 2004 | Minister Ernst Strasser, Minister of the Interior of the Republic of Austria | Non-acceptance would have caused embarrassment to donor and U.S. Government.

AGENCY: United States Senate
[Report of Tangible Gifts]
Name and title of person accepting the gift on behalf of the U.S. Government | Gift, date of acceptance on behalf of the U.S. Government, estimated value, and current disposition or location | Identity of foreign donor and government | Circumstances justifying acceptance
Senator Hillary Rodham Clinton | Afghan Rug, Date Received 2004. Est. Value—Overvalue—exact value unknown, Location: Displayed in Member's Office in SR-468 | His Excellency Hamid Karzai, President of the Transitional Islamic State of Afghanistan | Non-acceptance would cause donor embarrassment.
Senator Ted Stevens | Silver desk set and decorative plate w/ stand and letter opener. January 21, 2004. Est. Value—Over $100. Location: Displayed in Member's Office in SH-522 | King Hussein of Jordan | Non-acceptance would cause donor embarrassment.
Senator John Warner | Table linens and crystal bowl from Tiffany and Company. January 12, 2004. Est. Value—$600. Disposition: Deposited with the Secretary of the Senate | Ambassador Yang Jiechi of China and Ambassador Salem Al-Sabah | Non-acceptance would cause donor embarrassment.
Senator Thad Cochran | Lapis box w/flip top, January 20, 2004, Est. Value—$300, Location: Displayed in SD-101 for official use | Michelle Bachelet, Minister of Defense for Chile | Non-acceptance would cause donor embarrassment.
Senator Richard Lugar, Senate Foreign Relations Committee | Large black rug w/image of King Tut. January 23, 2004. Est. Value—Over $100. Disposition: Deposited with the Secretary of the Senate | Mohamed Hussein Tantawi, Commander in Chief of the Egyptian Armed Forces | Non-acceptance would cause donor embarrassment.
Senator Charles Grassley | Silver L'Epee clock, February 2004, Est. Value—$540. Location: Displayed in Member's Office in SH-135 for official use | Salman Bin Hamad Al Khalifa, Crown Prince and Commander-in-Chief of the Bahrain Defense Force | Non-acceptance would cause donor embarrassment.
Senator John Warner | Scarf, March 20, 2004, Est. Value—$100. Disposition: Deposited with the Secretary of the Senate | Unknown | Non-acceptance would cause donor embarrassment.
Senator John Warner | Gold Plated Box, Est. Value—$200. Disposition: Deposited with the Secretary of the Senate | Hamid Karzai, President of Afghanistan | Non-acceptance would cause donor embarrassment.
Senator John Warner | Clock surrounded by jade and gold. March 20, 2004. Est. Value—$300. Disposition: Deposited with the Secretary of the Senate | Muhammedmain Soomro, Chairman of the Senate of Pakistan | Non-acceptance would cause donor embarrassment.
Senator John Warner | Silver Bowl. Est. Value—$200. Disposition: Deposited with the Secretary of the Senate | President Pervez Musharraf of Pakistan | Non-acceptance would cause donor embarrassment.
Senator Carl Levin | Book of the Collection of the Works of Mr. Mahmoud Farshcian. March 20, 2004. Est. Value—Over $100. Disposition: Deposited with the Secretary of the Senate | Ambassador Mohammad Javad Zarif-Khonsari, Permanent Iranian representative to the United Nations | Non-acceptance would cause donor embarrassment.
Senator Richard Lugar | Bronze ox Lamp from Jiangsu Province. July 21, 2004. Est. Value—Over $100. Disposition: Deposited with the Secretary of the Senate | Li Yuanchao, Communist Party of China Jiangsu Committee Secretary | Non-acceptance would cause donor embarrassment.
Senator Edward Kennedy | Tiled wall hanging mosaic, August 1, 2001. Est. Value—$1,500. Disposition: Displayed in Member's Office in SR-319 for official use | President Abdelaziz Bouteflika of Algeria | Non-acceptance would cause donor embarrassment.
Senator Christopher J. Dodd | Black carpet w/ the imprint of King Tut. March 2004. Est. Value—Unknown. Disposition: Deposited with the Secretary of the Senate | Mohamed Hussein Tantawi, Minister of Defense of the Government of Egypt | Non-acceptance would cause donor embarrassment.
Robert Roach, Counsel and Chief Investigator, U.S. Senate Permanent Subcommittee on Investigations (Dem. Staff) | Lunch for the Steering Group of the Cambridge America Forum. September 19, 2004. Est. Value—$57.60. Handled pursuant to Secret Service policy | The Cambridge America Forum of St. Catharine's College in Cambridge University (United Kingdom) | Non-acceptance would cause donor embarrassment.
Robert Roach, Counsel and Chief Investigator, U.S. Senate Permanent Subcommittee on Investigations (Dem. Staff) | Welcome dinner for the Steering Group of the Cambridge America Forum including panelists participating in the conference. September 19, 2004. Est. Value—$48. Handled pursuant to Secret Service policy | The Fellows of St. Catherine's College in Cambridge University (United Kingdom) | Non-acceptance would cause donor embarrassment.
Robert Roach, Counsel and Chief Investigator, U.S. Senate Permanent Subcommittee on Investigations (Dem. Staff) | Lunch for all participants and attendees at conference. September 20, 2004. Est. Value—$48. Handled pursuant to Secret Service policy | The Cambridge America Forum of St. Catharine's College in Cambridge University (United Kingdom) | Non-acceptance would cause donor embarrassment.
Senator Thad Cochran | Large Kilim rug, August 2004. Est. Value—$800. Location: Displayed in SD-113 for official use | Government of Baku | Non-acceptance would cause donor embarrassment.
Senator Thad Cochran | Decorative Brass Tea Set. August 2004, Est. Value—$150. Location: Displayed in SD-113 for official use | Government of Baku | Non-acceptance would cause donor embarrassment.
Kay Webber, Executive Assistant, Office of Senator Thad Cochran | Large Kilim rug, August 24, 2004, Est. Value—$800. Decorative Brass Tea Set. Est. Value—$150. Location: Deposited with the Secretary of the Senate | Government of Baku | Non-acceptance would cause donor embarrassment.
James W. Morehard, Chief of Staff, Committee on Appropriations | Silver Tea Set. September 28, 2004. Est. Value—$150. Small hand-made rug, Est. Value—$400. Location: Deposited with the Secretary of the Senate | President Ilham Aliyev of Azerbaijan | Non-acceptance would cause donor embarrassment.
Sid Ashworth, Clerk, Committee on Appropriations, Subcommittee on Defense | Silver Tea Set Est. Value—$150. Small hand-made rug. September 28, 2004. Est. Value—$450. Location: Deposited with the Secretary of the Senate | President Ilham Aliyev of Azerbaijan | Non-acceptance would cause donor embarrassment.
Senator Richard Lugar | Dom Perignon Champagne, 750 ML., December 8, 2004. Est. Value—$150. Location: Deposited with the Secretary of the Senate | Ambassador Ranendra Sen, India's Ambassador to the U.S. | Non-acceptance would cause donor embarrassment.
Senator E. Benjamin Nelson | Rug. October 25, 2004. Est. Value—$800. Location: Displayed in State office, 7602 Pacific St. Omaha, Nebraska for official use | President Ilham Aliyev of Azerbaijan and the Government of Baku | Non-acceptance would cause donor embarrassment.
Senator E. Benjamin Nelson | Silver Tea Set and Carrying Case. October 25, 2004. Est. Value—$150. Location: Displayed in Member's Office in SH-720 for official use | President Ilham Aliyev of Azerbaijan and the Government of Baku | Non-acceptance would cause donor embarrassment.
Senator Hillary Rodham Clinton | Leather Wallet and Clutch Purse by Versace. July 2004. Est. Value—Overvalue but actual amount unknown. Location: Deposited with the Secretary of the Senate, Leather Wallet and Card case. Est. Value—Unknown. Location: Deposited with the Secretary of the Senate. Small Enameled Display Pedestal. Est. Value—Unknown. Location: Deposited with the Secretary of the Senate | Shobha Oza, President of the Mahila Congress Madhya Pradesh within the Indian National Congress | Non-acceptance would cause donor embarrassment.

AGENCY: United States Senate
[Report of Travel or Expenses of Travel]
Name and title of person accepting the gift on behalf of the U.S. Government | Gift, date of acceptance on behalf of the U.S. Government, estimated value, and current disposition or location | Identity of foreign donor and government | Circumstances justifying acceptance
Mr. Brian S. Feintech, Committee on Appropriations | Bus Transportation to projects managed by the Ministry of Health. February 18th & 20th, 2004 | Government of the Dominican Republic | Travel to view projects managed by the Ministry of Health, U.S. AID and the UN Population Fund with periodic briefings en route.
| Transportation within the Dominican Republic on military helicopters to outlying areas to visit projects. February 19, 2004 |  | Travel to view projects funded by the U.S. Government and UNFPA. Itinerary would have been impossible w/o government.
Ms. Lindsey Brill, Health LA, Office of Senator Lincoln Chafee | Bus transportation to projects managed by the Ministry of Health. February 18th & 20th, 2004 | Government of the Dominican Republic | Travel to view projects managed by the Ministry of Health, U.S. AID, and the UN Population Fund with periodic briefings en route.
| Transportation within the Dominican Republic on military helicopters to outlying areas to visit projects. February 19, 2004 |  | Travel to view projects funded by the U.S. Government and UN Population Fund. Itinerary would have been impossible w/o government assistance.
Ms. Julie Cohen, Legislative Assistant, Office of Senator Herb Kohl | Bus transportation to projects managed by the Ministry of Health. February 18th & 20th, 2004 | Government of the Dominican Republic | Travel to view projects managed by the Ministry of Health, U.S. AID, and the UN Population Fund with periodic briefings en route.
| Transportation within the Dominican Republic on military helicopters to outlying areas to visit projects. February 19, 2004 |  | Travel to view projects funded by the U.S. Government and UN Population Fund. Itinerary would have been impossible w/o government assistance.
Senator and Mrs. Paul Sarbanes | Transportation within Greece to attend and give keynote speech at the WHIU General Assembly, including lodging and meals. August 12-17, 2000 | World Hellenic Inter-Parliamentary Union (WHIU) | Travel to discuss Hellenic issues with worldwide elected officials; meet with the Greek Parliament and President of Greece.
Senator Chuck Hagel | Transportation within Gabon via President Bongo's helicopter to view threatened and sensitive ecological sites protected by Gabon's national park system. August 25, 2004 | President Omar Bongo and the Government of Gabon | Official travel to view key ecological sites. No commercial option.
Andrew Parasiliti, Foreign Policy Advisor, Office of Senator Chuck Hagel | Transportation within Gabon via President Bongo's helicopter to view threatened and sensitive ecological sites protected by Gabon's national park system. August 25, 2004 | President Omar Bongo and the Government of Gabon | Official travel to view key ecological sites. No commercial option.
Randel Zeller, Senior Policy Advisor, Office of Senator Chuck Hagel | Transportation within Gabon via President Bongo's helicopter to view threatened and sensitive ecological sites protected by Gabon's national park system. August 25, 2004 | President Omar Bong and the Government of Gabon | Official travel to view key ecological sites. No commercial option.
Mrs. Hillary Rodham Clinton, U.S. Senator | Transportation from Iceland to Ireland, within Ireland; one nights lodging in Ireland. August 25-28, 2004 | University of Deny, Ireland | Travel for speech at the University, official events.
Mr. Robert Holifield, Legislative Assistant, Senator Blanche Lincoln | Transportation within Yemen (round trip from Sanaa to Mukallah) to meet with President Salih. February 19, 2004 | Government of Yemen | Official travel to meet with President Salih on international trade issues. The staff delegation was tentatively scheduled to meet with President Salih in Sanaa on Feb. 19.* However, upon arriving in Sanaa at 10 p.m. on Feb. 18th we were informed by U.S. Embassy personnel that President Salih would be in Mukallah the next morning and that the Government of Yemen has arranged to transport us there for the meeting. Given the late hour of our arrival in Sanaa, and given that we would be required to leave early the next morning, non-acceptance of the flight and thus the cancellation of the meeting would have caused the donor embarrassment.
Mr. David S. Johanson, International Trade Counsel, Committee on Finance | Transportation within Yemen (roundtrip from Sanaa to Mukallah) to meet with President Salih. February 19, 2004 | Government of Yemen | Official travel to meet with President Salih on international trade issues. The staff delegation was tentatively scheduled to meet with President Salih in Sanaa on Feb. 19th. However, upon arriving in Sanaa at 10 p.m. on Feb. 18th, we were informed by U.S. Embassy personnel that President Salih would be in Mukallah the next morning and that the Government of Yemen has arranged to transport us there for the meeting. Given the late hour of our arrival in Sanaa, and given that we would be required to leave early the next morning for Mukallah, it was impractical to attempt to arrange a commercial flight. Alternatively, non-acceptance of the flight and thus cancellation of the meeting with President Salih—a meeting in the interests of the United States—would have caused the donor embarrassment.
Bryn N. Stewart, Legislative Director, Office of Senator Craig Thomas | Transportation between Sanaa, Yemen and Mukallah, Yemen to meet President Salih. ($235.00), which represents the cost of round trip airfare between the two cities. February 19, 2004 | Government of Yemen | Official travel to meet with President Salih to discuss international trade issues. The staff delegation was scheduled to meet with the President in Sanaa, but they were informed that the President was in Mukallah and the Government of Yemen has arranged to transport us there for the meeting. Due to the late hour of arrival in Sanaa, and given the early departure needed to arrive in time to meet the President, it was impractical to arrange a commercial flight within the time constraints given us.
Mr. David Wonnenberg, Professional Staff Member, Senate Commerce Committee | Transportation between Sanaa and Mukallah to meet President Salih. February 19, 2004 | Government of Yemen | Official travel to meet with President Salih on international trade issues. Due to the last minute change in our itinerary (original meeting was to take place in Sanaa, but that was moved to Mukallah) the Government of Yemen arranged for a flight to address this change in President Salih's availability. It was impractical to obtain commercial travel and non-acceptance would have caused the donor embarrassment.
Mr. Brian Pomper, International Trade Counsel, Committee on Finance (Dem Staff) | Transportation within Yemen (round trip from Sanaa to Mukallah) to meet President Salih ($235). February 19, 2004 | Government of Yemen | Official travel to meet with President Salih on international trade issues. The meeting and flight were arranged last-minute. The staff delegation was tentatively scheduled to meet with President Salih in Sanaa on February 19th. However, upon arriving in Sanaa at 10 p.m. on February 18th, we were informed by U.S. embassy personnel that President Salih would be in Mukallah the next morning and that the Government of Yemen had arranged to transport us there for the meeting. Given the late hour of our arrival in Sanaa, and given that we would be required to leave early the next morning for Mukallah, it was impractical to attempt to arrange a commercial flight. Refusing to accept the flight and canceling the meeting with President Salih would have embarrassed the Government of Yemen.
Senator Mitch McConnell | Transportation within Israel via military aircraft to view security fence and other strategic sites. November 14, 2004 | Government of Israel | No commercial travel available to tour these sites.
Mr. William H. Piper, Chief of Staff, Office of Senator Mitch McConnell | Transportation within Israel via military aircraft to view security fence and other strategic sites. November 14, 2004 | Government of Israel | No commercial travel available to tour these sites.
Ms. Ellen Doneski, Legislative Director, Office of Senator John D. Rockefeller, IV | Transportation within Yemen (roundtrip from Sanaa to Mukallah) to meet President Salih. February 19, 2004 | Government of Yemen | Official travel to meet with President Salih on international trade issues. The staff delegation was tentatively scheduled to meet with President Salih in Sanaa on Feb. 19th. However, upon arriving in Sanaa at 10 p.m. on Feb. 18th, we were informed by U.S. Embassy personnel that President Salih would be in Mukallah the next morning and that the Government of Yemen has arranged to transport us there for the meeting. Given the late hour of our arrival in Sanaa, and given that we would be required to leave early the next morning for Mukallah. It was impractical to attempt to arrange a commercial flight. Alternatively, non-acceptance of the flight and thus cancellation of the meeting with President Salih—a meeting in the interests of the United States—would have caused the donor embarrassment.

AGENCY: U.S. House of Representatives
[Report of Tangible Gifts]
Name and title of person accepting the gift on behalf of the U.S. Government | Gift, date of acceptance on behalf of the U.S. Government, estimated value, and current disposition or location | Identity of foreign donor and government | Circumstances justifying acceptance
Dennis J. Hastert, Member of Congress | Royal De Champagne Crystal Lion. Recd.—December 15, 2004. Est. Value—$675.00. Disposition: On display in the Speaker's Office, Room H-232 of The U.S. Capitol for official use | Lucien Weiler, President of the Chamber of Deputies of Luxembourg | Non-acceptance would have caused embarrassment to donor.

AGENCY: U.S. House of Representatives
[Report of Travel or Expenses of Travel]
Name and title of person accepting the gift on behalf of the U.S. Government | Gift, date of acceptance on behalf of the U.S. Government, estimated value, and current disposition or location | Identity of foreign donor and government | Circumstances justifying acceptance
Susan Davis, Member of Congress | Lodging and meals in Libya. March 2, 2004 | Libyan Parliament | Authorized by 5 U.S.C. 7342(c)(l)(B)(ii).
Thaddeus McCotter, Member of Congress | Hotel and meals in Libya. March 2, 2004 | Libyan Parliament | Authorized by 5 U.S.C. 7342(c)(l)(B)(ii).
Solomon P. Ortiz, Member of Congress | Lodging and meals in Libya. March 2, 2004 | Libyan Parliament | Authorized by 5 U.S.C. 7342(c)(l)(B)(ii).
Silvestre Reyes, Member of Congress | Lodging and meals in Libya. March 2, 2004 | Libyan Parliament | Authorized by 5 U.S.C. 7342(c)(l)(B)(ii).
Nick Smith, Member of Congress | Lodging and meals in Libya. March 2, 2004 | Libyan Parliament | Authorized by 5 U.S.C. 7342(c)(l)(B)(ii).
Curt Weldon, Member of Congress | Lodging and meals in Libya. March 2, 2004 | Libyan Parliament | Authorized by 5 U.S.C. 7342(c)(l)(B)(ii).
M. Douglass Bellis, Deputy Legislative Counsel | In country travel expenses in St. Kitts, West Indies, in connection with presentation of paper at legislative drafting conference. July 14-18, 2004 | University of the West Indies | Authorized by 5 U.S.C. 7342(c)(l)(B)(ii).
Erin Conaton, Staff, House Armed Services Committee | Lodging and meals in Libya. March 2, 2004 | Libyan Parliament | Authorized by 5 U.S.C. 7342(c)(l)(B)(ii).
Douglas C. Roach, Staff, House Armed Services Committee | Lodging and meals in Libya. March 2, 2004 | Libyan Parliament | Authorized by 5 U.S.C. 7342(c)(l)(B)(ii).
Christopher C. Schons, Legislative Assistant for International Affairs, Rep. Katherine Harris | Meals, lodging and in country travel in Guatemala. August 16-19, 2004 | Guatemala | Authorized by 5 U.S.C. 7342(c)(l)(B)(ii).
Harold O. Stavenas, Staff, House Armed Services Committee | Lodging and meals in Libya. March 2, 2004 | Libyan Parliament | Authorized by 5 U.S.C. 7342(c)(l)(B)(ii).
Chandler, A.B., HI, Member of Congress | Accommodations, meals, domestic transport, tours, theatre tickets during travel in Sydney, Melbourne and Port Douglas, for Member and spouse. November 8-14, 2004 | Australian Government | Authorized by 5 U.S.C. 7342(c)(l)(B)(ii).
Cooper, Jim, Member of Congress | Accommodations, meals, domestic transport, tours, theatre tickets during travel in Sydney, Melbourne and Port Douglas, for Member and spouse. November 6-14, 2004 | Australian Government | Authorized by 5 U.S.C. 7342(c)(l)(B)(ii).
Mike Ross, Member of Congress | Domestic Transportation in Australia. November 6-14, 2004 | Australian Government | Authorized by 5 U.S.C. 7342(c)(l)(B)(ii).
Daly, Brendan, Communications Director House Democratic Leader | Airport fees, lodging, meals/program in Russia. June 26-July 2, 2004 | Russia | Authorized by 5 U.S.C. 7342(c)(l)(B)(ii).

AGENCY: Department of Navy
[Report of Tangible Gifts]
Name and title of person accepting the gift on behalf of the U.S. Government | Gift, date of acceptance on behalf of the U.S. Government, estimated value, and current disposition or location | Identity of foreign donor and government | Circumstances justifying acceptance
Mrs. R.F. Willard, spouse of Vice Admiral R.F. Willard, Commander of the Seventh Fleet | Woman's watch. Received Date: 3/18/2004. Estimated Value: $662.00. Disposition: Transferred to General Services Administration | Townsville, Australia Delegation | Non-acceptance would have caused embarrassment to donor and U.S. Government.
Navy Approx. 450 members of Company Patrol and Reconnaissance Wing Ten | Party/Banquet at the NAS Whidbey Island Officers' Club. Received Date: 8/6/2004. Estimated Value: $8,600.00. Disposition: Food and Beverages consumed, T-shirts and cups accepted | Japanese Maritime Self Defense Force PATRON DET39 | Non-acceptance would have caused embarrassment to donor and U.S. Government.
Vice Admiral R.F. Willard, Commander of the Seventh Fleet | Man's watch. Received Date: 3/18/2004. Estimated Value: $856.00. Disposition: Transferred to General Services Administration | Townsville, Australia Delegation | Non-acceptance would have caused embarrassment to donor and U.S. Government.

AGENCY: Department of Navy
[Report of Travel and Travel Expenses]
Name and title of person accepting the gift on behalf of the U.S. Government | Gift, date of acceptance on behalf of the U.S. Government, estimated value, and current disposition or location | Identity of foreign donor and government | Circumstances justifying acceptance
Vice Admiral & Mrs. Willard, Commander, C7F and Spouse | Travel and lodging in Japan. Recd—May 13-17, 2004. Est. Value—$820.00 | City of Shimoda, Japan | Official participation in the 65th Annual Shimoda Black Ship Festival.
Flag Aide Lieutenant Bandini, Commission Seventh Fleet—Navy | Travel and lodging in Japan. Recd—May 13-17, 2004. Est. Value—$590.00 | City of Shimoda, Japan | Official participation in the 65th Annual Shimoda Black Ship Festival.

AGENCY: Department of Air Force
[Report of Tangible Gifts]
Name and title of person accepting the gift on behalf of the U.S. Government | Gift, date of acceptance on behalf of the U.S. Government, estimated value, and current disposition or location | Identity of foreign donor and government | Circumstances justifying acceptance
Allan G. Peck, Brigadier General, U.S. Air Force | Vittorio Vercelli leather attaché case, wallet, key holder watch, box and 2 Concord pens. Received Date: 5/23/2004. Estimated Value: $492.00. Disposition: Department of Air Force, Approved for Official Use | Major General Hamad Mohammed Thani Al-Rumaithy, Deputy Chief of Staff, General Headquarters, United Arab Emirates Armed Forces | Non-acceptance would have caused embarrassment to donor and U.S. Government.
Christopher M. Campbell, Colonel, U.S. Air Force | Italian “Momo Design” Watch. Received Date: 5/26/2004. Estimated Value: $620.00. Disposition: Transferred to General Services Administration | Jabir Mubarak al-Hamad al-Sabah, the Deputy Prime Minister and Minister of Defense, Kuwait | Non-acceptance would have caused embarrassment to donor and U.S. Government.
Walter E. Buchanan, III, Lieutenant General, U.S. Air Force, Central Air Force Commander | Vittorio Vercelli leather attaché case, wallet, key holder watch, box and 2 Concord pens. Received Date: 5/23/004. Estimated Value: $492.00. Disposition: Transferred to General Services Administration | Major General Hamad Mohammed Thani Al-Rumaithy, Deputy Chief of Staff, General Headquarters, United Arab Emirates Armed Forces | Non-acceptance would have caused embarrassment to donor and U.S. Government.

AGENCY: Central Intelligence Agency
[Report of Tangible Gifts]
Name and title of person accepting the gift on behalf of the U.S. Government | Gift, date of acceptance on behalf of the U.S. Government, estimated value, and current disposition or location | Identity of foreign donor and government | Circumstances justifying acceptance
George J. Tenet, Director, Central Intelligence | Bronze group of an Arab man helping a woman from the bath, after a model by Reiss, modern, gold brown patina, mounted on a black slate base. H: 16 inches. Rec'd—January 14, 2004. Est. Value: $300.00. Location: To be retained for official display | 5 U.S.C. 7342(f)(4) | Non-acceptance would have caused embarrassment to donor and U.S. Government.
George J. Tenet, Director, Central Intelligence | Elizabeth II silver Turkish design coffee ewer, maker's marks GGM, London, 2001. Rec'd—February 10, 2004. Est. Value: $350.00. Location: To be retained for official display | 5 U.S.C. 7342(f)(4) | Non-acceptance would have caused embarrassment to donor and U.S. Government.
George J. Tenet, Director, Central Intelligence | Middle Eastern filigree silver and partial gilt palm tree form night-light, modern. Rec'd—March 9, 2004. Est. Value: $500.00. Location: To be retained for official display | 5 U.S.C. 7342(f)(4) | Non-acceptance would have caused embarrassment to donor and U.S. Government.
George J. Tenet, Director, Central Intelligence | Chased brass and rosette mounted figured wood percussion rifle, 19th century; together with ramrod and leather powder flask, mounted in a display case. Rec'd-June 13, 2004. Est. Value: $500.00. Location: To be retained for official display | 5 U.S.C. 7342(f)(4) | Non-acceptance would have caused embarrassment to donor and U.S. Government.
George J. Tenet, Director, Central Intelligence | Indian emerald, sapphire and gold five-piece ensemble, modern, consisting of: a tasseled necklace, a pair of tasseled pierced-type earrings and a ring, each set with faceted emeralds and sapphires, encased. Rec'd—June 14, 2004. Est. Value: $500.00. Location: To be retained for official display | 5 U.S.C. 7342(f)(4) | Non-acceptance would have caused embarrassment to donor and U.S. Government.
George J. Tenet, Director, Central Intelligence | Tower model 1856 Cal. 577 steel mounted walnut percussion rifle, stamped Tower/1856, also with impressed crown above VR, with folding sight and removable steel ramrod. L. of rifle overall: 55 inches. Rec'd—June 15, 2005. Est. Value: $750.00. Location: To be retained for official display | 5 U.S.C. 7342(f)(4) | Non-acceptance would have caused embarrassment to donor and U.S. Government.
George J. Tenet, Director, Central Intelligence | Wristwatch, maker Breitling, with stainless steel case, No., A42362 and 483749, dial with three subsidiary dials and a calendar aperture with leather band encased. Rec'd—June 16, 2004. Est. Value: $300.00. Location: To be retained for official display | 5 U.S.C. 7342(f)(4) | Non-acceptance would have caused embarrassment to donor and U.S. Government.
George J. Tenet, Director, Central Intelligence | Middle Eastern floral embossed silver oval two-handed footed centerpiece, with 900 standard marks. H: 8 Vt. inches, L including handles: 16 inches; weight: 46 oz. Rec'd—July 21, 2004. Est. Value: $500.00. Location: To be retained for official display | 5 U.S.C. 7342(f)(4) | Non-acceptance would have caused embarrassment to donor and U.S. Government.
George J. Tenet, Director, Central Intelligence | Bahranian 22-Karat gold five-piece coin set, Five Different Bahranian Rulers, encased. D of each: 1 Vz. inches (36 mm), weight of each: 31 grams. Rec'd—July 23, 2004. Est. Value: $1,500.00. Location: To be retained for official display | 5 U.S.C. 7342(f)(4) | Non-acceptance would have caused embarrassment to donor and U.S. Government.
An Agency Employee | Saudi Arabian eight-piece “Hashemite” coin proof set, minted in Mecca for His Majesty King Ali Hussein bin Ali (1916-1924), consisting of: a copper one-eight kirsh, a copper quarter kirsh, a copper half kirsh, a copper kirsh, a silver five kurush, a silver ten kurush, a silver twenty kirshan and a gold Hashimi Dinar. Rec'd—May 2003. Est. Value: $300.00. Location: To be retained for official display | 5 U.S.C. 7342(f)(4) | Non-acceptance would have caused embarrassment to donor and U.S. Government.
An Agency Employee | Continental hallmarked 18 karat yellow gold cabochon ruby and oval faceted emerald pierced type pendant earrings, modern, the Snowflake open mount set with a central cabochon ruby surrounded by eight rose cut emeralds. Rec'd—February 13, 2004. Est. Value: $300.00. Location: To be retained for official display | 5 U.S.C. 7342(f)(4) | Non-acceptance would have caused embarrassment to donor and U.S. Government.
An Agency Employee | Pakistan “Tabriz” design rug, 9.4′ x 6.8′, modern, navy blue with mille-fleur field centering two pulled lobed medallions on royal red to ivory ground, complimentary spandrels, palmette and trellising vine guard border on navy blue ground. Rec'd—October 20, 2002. Est. Value: $500.00. Location: To be retained for official display | 5 U.S.C. 7342(f)(4) | Non-acceptance would have caused embarrassment to donor and U.S. Government.
An Agency Employee | Qum silk rug, 6.9′ x 4.1′, modern, emerald green ground with flowering tree field, flowering branch and trellising vine guard border on red ground. Rec'd—May 8, 2004. Est. Value: $400.00. Location: To be retained for official display | 5 U.S.C. 7342(f)(4) | Non-acceptance would have caused embarrassment to donor and U.S. Government.
An Agency Employee | Pakistan Bokhara rug, 9.4′ x 7.3′, modern, light brown ground with vertical rows of octagon medallions and rosettes, multi-guard border on blue to beige ground. Rec'd—December 2002. Est. Value: $500.00. Location: To be retained for official display | 5 U.S.C. 7342(f)(4) | Non-acceptance would have caused embarrassment to donor and U.S. Government.

AGENCY: Federal Reserve Board
[Report of Tangible Gifts]
Name and title of person accepting the gift on behalf of the U.S. Government | Gift, date of acceptance on behalf of the U.S. Government, estimated value, and current disposition or location | Identity of foreign donor and government | Circumstances justifying acceptance
Ben S. Bernanke, Member of the Board | Yobide mainstream sculpture (plate, 8½″ diameter, decorated with dragon figures). Recd: September 29, 2004. Est. Value—$375. Location: Approved for official use | Chen Yuan, Governor, China Development Bank, People's Republic of China | Non-acceptance would have caused embarrassment to donor and U.S. Government.
Alan Greenspan, Chairman of the Board | Romanian gold commemorative coin, 1¼″ diameter with image of Constantin Brancusi. Recd: October 3, 2004. Est. Value—$750. Location: Approved for official use | Mugur Isarescu, Governor, National Bank of Romania | Non-acceptance would have caused embarrassment to donor and U.S. Government.

AGENCY: National Archives and Records Administration
[Report of Travel Expenses]
Name and title of person accepting the gift on behalf of the U.S. Government | Gift, date of acceptance on behalf of the U.S. Government, estimated value, and current disposition or location | Identity of foreign donor and government | Circumstances justifying acceptance
Paul Wester, Director, Life Cycle Management Division | Lodging in China. Rec'd December 8, 2004. Est. Value—$350.00 | National Science and Technical Museum Kaohsiung, The Republic of China (Taiwan) | Presented a paper on Strategic Directions for Federal Records Management.

[FR Doc. 06-5132 Filed 6-8-06; 8:45 am]

BILLING CODE 4710-20-P